OFFICE OF PERSONNEL MANAGEMENT

Excepted Service; Consolidated Listing of Schedules A, B, and C Exceptions

AGENCY: Office of Personnel Management.

ACTION: Notice.

SUMMARY: This gives a consolidated notice of all positions excepted under Schedules A, B, and C as of June 30, 2009, as required by Civil Service Rule VI, Exceptions From the Competitive Service.

FOR FURTHER INFORMATION: Roland Edwards, Executive Resources Services Group, Center for Performance Management System and Evaluation, Human Capital Leadership and Merit System Accountability Division, 202-606-2246.

SUPPLEMENTARY INFORMATION: Civil Service Rule VI (5 CFR 6.1) requires the U.S. Office of Personnel Management (OPM) to publish notice of all exceptions granted under Schedules A, B, and C. Title 5, Code of Federal Regulations, 213.103(c), further requires that a consolidated listing, current as of June 30 of each year, be published annually as a notice in the Federal Register at www.gpoaccess.gov/fr/. Agencies will notice the change in format of this notice from previous editions. The format has changed because it is not appropriate to set out what appears to be regulatory text in a notice document and therefore references to specific sections of the Code of Federal Regulations have been removed. The notice that follows is a summary of all schedule A, B, and C Excepted authorities. OPM maintains continuing information on the status of all Schedule A, B, and C excepted appointing authorities. Some of these exceptions are codified in the Code of Federal Regulations at 5 CFR, part 213 while others are not. We have identified those authorities below which are codified and those which are not. We remind agencies to consult the CFR before using these governmentwide authorities. Agencies are also reminded to consult their agency headquarters before using any agency-specific authority. Additionally, the authorities are subject to the provisions of 5 CFR, part 302 unless specifically exempted from those procedures. Interested parties needing information about specific authorities during the year may obtain information by writing to the Executive Resources Services Group, Center for Performance Management Systems and Evaluation, Human Capital Leadership and Merit System Accountability Division, Office of Personnel Management, 1900 E Street, NW., Room 6484, Washington, DC 20415, or by calling (202) 606-2246.

The following listing summarizes the Schedule A excepted authorities authorized for Government-wide use. These authorities are codified in 5 CFR part 213. These excepted authorities are current as of June 30, 2009. Please consult the CFR to read the full authority.

Schedule A

The following are Schedule A authorities that are authorized for use by the entire Executive Civil Service:

1. Positions of Chaplain and Chaplain's Assistant.

2. Positions to which appointments are made by the President without confirmation by the Senate.

3. Attorneys.

4. Law clerk trainee positions.

5. Temporary and less-than-full time positions for which examining is impracticable. These are: positions in remote/isolated locations where examination is impracticable; positions for which a critical hiring needs exists; and other positions that OPM may determine are impracticable to examine.

6. Positions filled by current or former Federal employees eligible for placement under special statutory provisions.

7. Positions without compensation provided appointments thereto meet the requirements of applicable laws relating to compensation.

8. Positions requiring the temporary or intermittent employment of professional, scientific, and technical experts for consultation purposes.

9. Any local physician, surgeon, or dentist employed under contract or on a part-time or fee basis.

10. Positions of a scientific, professional or analytical nature when filled by bona fide members of the faculty of an accredited college or university who has special qualifications for the positions to which appointed.

11. Positions established in support of a fellowship and similar programs that are filled from limited applicant pools and operate under specific criteria developed by the employing agency and/or a non-Federal organization.

12. Positions with compensation fixed under 5 U.S.C. 5351-5356 when filled by student-employees assigned or attached to Government hospitals, clinics or medical or dental laboratories.

13. Appointment of Persons with Mental Retardation, Severe Physical Disabilities, or Psychiatric Disabilities.

14. Positions for which a local recruiting shortage exists when filled by inmates of Federal, District of Columbia, and State (including the Commonwealth of Puerto Rico, the Virgin Islands, Guam, American Samoa, and the Trust Territory of the Pacific Islands) penal and correctional institutions under work-release programs authorized by the Prisoner Rehabilitation Act of 1965, the District of Columbia Work Release Act, or under work-release programs authorized by the States.

15. Not to exceed 30 positions of assistants to top-level Federal officials when filled by persons designated by the President as White House Fellows.

16. Scientific and professional research associate positions at GS-11 and above when filled on a temporary basis by persons having a doctoral degree in an appropriate field of study for research activities of mutual interest to appointees and their agencies.

17. Positions when filled by aliens in the absence of qualified citizens.

18. Not to exceed 24 positions when filled in accordance with an agreement between OPM and the Department of Justice by persons in programs administered by the Attorney General of the United States under Public Law 91-452 and related statutes.

19. Positions of Fellows in the Presidential Management Fellows Program.

20. Positions of Senior Fellows in the Presidential Management Fellows Program.

21. Positions as needed of readers for blind employees, interpreters for deaf employees and personal assistants for handicapped employees.

22. Positions on the staffs of temporary organizations, as defined in 5 U.S.C. 3161(a).

The following summary of Schedule A exceptions, current as of June 30, 2009, are agency-specific and are not codified in the Code of Federal Regulations. Agencies should consult with their headquarters to read the full authority.

23. Executive Office of the President.

Office of Administration—Not to exceed 75 positions to provide administrative services and support to the White House Office.

Office of Management and Budget—Not to exceed 15 positions at grades GS-5/15.

Council on Environmental Quality—Professional and technical positions in grades GS-9 through GS-15 on the staff of the Council.

National Security Council—All positions on the staff of the Council.

Office of Science and Technology Policy—Thirty positions of Senior Policy Analyst, GS-15; Policy Analyst, GS-11/14; and Policy Research Assistant, GS-9, for employment of anyone not to exceed 5 years on projects of a high priority nature.

Office of National Drug Control Policy—Not to exceed 15 positions, GS-15 and below, of senior policy analysts and other personnel with expertise in drug-related issues and/or technical knowledge to aid in anti-drug abuse efforts.

24. Department of State.

Office of the Secretary—All positions, GS-15 and below, on the staff of the Family Liaison Office, Director General of the Foreign Service and the Director of Personnel, Office of the Under Secretary for Management.

One position of Museum Curator (Arts), in the Office of the Under Secretary for Management, whose incumbent, will serve as Director, Diplomatic Reception Rooms. No new appointments may be made after February 28, 1997.

American Embassy, Paris, France—Chief, Travel and Visitor Unit. No new appointments may be made under this authority after August 10, 1981.

Bureau of Population, Refugees, and Migration—Not to exceed 10 positions at grades GS-5 through 11 on the staff of the Bureau.

Bureau of Administration—One Presidential Travel Officer. No new appointments may be made under this authority after June 11, 1981.

One position of Director, Art in Embassies Program, GM-1001-15.

Up to 250 time-limited positions within the Department of State in support of the June 2004 Economic Summit of Industrial Nations. No new appointments may be made under this authority after June 30, 2004.

25. Department of the Treasury.

Office of the Secretary—Not to exceed 20 positions at the equivalent of GS-13 through GS-17 to supplement permanent staff in the study of complex problems relating to international financial, economic, trade, and energy policies and programs of the Government, when filled by individuals with special qualifications for the particular study being undertaken.

Not to exceed 20 positions, which will supplement permanent staff involved in the study and analysis of complex problems in the areas of domestic economic and financial policy.

Not to exceed 100 positions in the Office of the Under Secretary for Terrorism and Financial Intelligence.

U.S. Customs Service—Positions in foreign countries designated as “interpreter-translator” and “special employees,” when filled by appointment of persons who are not citizens of the United States; and positions in foreign countries of messenger and janitor.

Not to exceed 25 positions of Customs Patrol Officers in the Papago Indian Agency in the State of Arizona when filled by the appointment of persons of one-fourth or more Indian blood.

Office of Thrift Supervision (OTS)—All positions in the supervision policy and supervision operations functions of OTS. No new appointments may be made under this authority after December 31, 1993.

Internal Revenue Service—Twenty positions of investigator for special assignments.

Bureau of Alcohol, Tobacco, and Firearms—One hundred positions of criminal investigator for special assignments. One non-permanent Senior Level (SL) Criminal Investigator to serve as a senior advisor to the Assistant Director (Firearms, Explosives, and Arson).

Office of Financial Stability—Positions needed to perform investment, risk, financial, compliance, and asset management requiring unique qualifications currently not established by OPM. Positions will be in the Office of Financial Stability at the General Schedule (GS) grade levels 12-15 or Senior Level (SL), for initial employment not to exceed 4 years. No new appointments may be made under this authority after December 31, 2009.

26. Department of Defense.

Office of the Secretary—One Executive Secretary, US-USSR Standing Consultative Commission and Staff Analyst (SALT), Office of the Assistant Secretary of Defense (International Security Affairs).

Entire Department (including the Office of the Secretary of Defense and the Departments of the Army, Navy, and Air Force)—Professional positions in Military Dependent School Systems overseas.

Positions in attache 1 systems overseas, including all professional and scientific positions in the Naval Research Branch Office in London.

Positions of clerk-translator, translator, and interpreter overseas; Positions of Educational Specialist the incumbents of which will serve as Director of Religious Education on the staffs of the chaplains in the military services.

Positions under the program for utilization of alien scientists, approved under pertinent directives administered by the Director of Defense Research and Engineering of the Department of Defense, when occupied by alien scientists initially employed under the program including those who have acquired United States citizenship during such employment.

Positions in overseas installations of the DOD when filled by dependents of military or civilian employees of the U.S. Government residing in the area.

Twenty secretarial and staff support positions at GS-12 or below on the White House Support Group.

Positions in DOD research and development activities occupied by participants in the DOD Science and Engineering Apprenticeship Program for High School Students.

Positions engaged in the reconstruction of Iraq; for hiring non-U.S. citizens when there is a severe shortage of candidates with U.S. citizenship. This authority is limited to appointments made on or before July 1, 2004, and is subject to any restrictions set forth in the Department of Defense FY 2002 Appropriations Act.

Temporary or time-limited positions in direct support of U.S. Government efforts to rebuild and create an independent, free and secure Iraq and Afghanistan, when no other appropriate appointing authority applies. Positions will generally be located in Iraq or Afghanistan, but may be in other locations, including the United States, when directly supporting operations in Iraq or in Afghanistan. No new appointments may be made under this authority after October 1, 2012.

General—Positions concerned with advising, administering, supervising, or performing work in the collection, processing, analysis, production, evaluation, interpretation, dissemination, and estimation of intelligence information, including scientific and technical positions in the intelligence function; and positions involved in the planning, programming, and management of intelligence resources when, in the opinion of OPM, it is impracticable to examine. This authority does not apply to positions assigned to cryptologic and communications intelligence activities/functions.

Positions involved in intelligence-related work of the cryptologic intelligence activities of the military departments. This includes all positions of intelligence research specialist, and similar positions in the intelligence classification series; all scientific and technical positions involving the applications of engineering, physical or technical sciences to intelligence work; and professional as well as intelligence technician positions in which a majority of the incumbent's time is spent in advising, administering, supervising, or performing work in the collection, processing, analysis, production, evaluation, interpretation, dissemination, and estimation of intelligence information or in the planning, programming, and management of intelligence resources.

Uniformed Services University of the Health Sciences—Positions of President, Vice President, Assistant Vice President, Dean, Deputy Dean, Associate Dean, Assistant Dean, Assistant to the President, Assistant to the Vice President, Assistant to the Dean, Professor, Associate Professor, Assistant Professor, Instructor, Visiting Scientist, Research Associate, Senior Research Associate, Postdoctoral Fellow, and positions established to perform work on projects funded from grants.

National Defense University—Not to exceed 16 positions of senior policy analyst, GS-15, at the Strategic Concepts Development Center.

Defense Communications Agency—Not to exceed 10 positions at grades GS-10/15 to staff and support the Crisis Management Center at the White House.

Defense Acquisition University—The Provost and professors.

George C. Marshall European Center for Security Studies, Garmisch, Germany—The Director, Deputy Director, and positions of professor, instructor, and lecturer at the George C. Marshall European Center for Security Studies, Garmisch, Germany.

Asia-Pacific Center for Security Studies, Honolulu, Hawaii—The Director, Deputy Director, Dean of Academics, Director of College, deputy department chairs, and senior positions of professor, associate professor, and research fellow within the Asia Pacific Center.

Business Transformation Agency—Fifty temporary or time-limited (not to exceed four years) positions, at grades GS-11through GS-15. The authority will be used to appoint persons in the following series: Management and Program Analyst, GS-343: Logistics Management, GS-346; Financial Management Programs, GS-501; Accounting, GS-510; Computer Engineering, GS-854; Business and Industry, GS-1101; Operations Research, GS-1515; Computer Science, GS-1550; General Supply, GS-2001; Supply Program Management, GS-2003; Inventory Management, GS-2010; and Information Technology, GS-2210.

Special Inspector General for Afghanistan—Positions needed to establish the Special Inspector General for Afghanistan Reconstruction. These positions provide for the independent and objective conduct and supervision of audits and investigations relating to the programs and operations funded with amounts appropriated and otherwise made available for the reconstruction of Afghanistan. These positions are established at General Schedule (GS) grade levels for initial employment not to exceed 3 years and may, with prior approval of OPM, be extended for an additional period of 2 years. No new appointments may be made under this authority after January 31, 2011.

27. Department of the Army.

U.S. Military Academy, West Point, New York—Civilian professors, instructors, teachers (except teachers at the Children's School), Cadet Social Activities Coordinator, Chapel Organist and Choir-Master, Director of Intercollegiate Athletics, Associate Director of Intercollegiate Athletics, Coaches, Facility Manager, Building Manager, three Physical Therapists (Athletic Trainers), Associate Director of Admissions for Plans and Programs, Deputy Director of Alumni Affairs; and Librarian when filled by an officer of the Regular Army retired from active service, and the Military Secretary to the Superintendent when filled by a U.S. Military Academy graduate retired as a regular commissioned officer for disability.

Defense Language Institute—All positions (professors, instructors, lecturers) which require proficiency in a foreign language or knowledge of foreign language teaching methods.

Army War College, Carlisle Barracks, PA—Positions of professor, instructor, or lecturer associated with courses of instruction of at least 10 months duration for employment not to exceed 5 years, which may be renewed in 1-, 2-, 3-, 4-, or 5-year increments indefinitely thereafter.

U.S. Military Academy Preparatory School, Fort Monmouth, New Jersey—Positions of Academic Director, Department Head, and Instructor.

U.S. Army Command and General Staff College, Fort Leavenworth, Kansas—Positions of professor, associate professor, assistant professor, and instructor associated with courses of instruction of at least 10 months duration, for employment not to exceed up to 5 years, which may be renewed in 1-, 2-, 3-, 4-, or 5-year increments indefinitely thereafter.

28. Department of the Navy.

General—Marine positions assigned to a coastal or seagoing vessel operated by a naval activity for research or training purposes. All positions necessary for the administration and maintenance of the official residence of the Vice President.

Naval Academy, Naval Postgraduate School, and Naval War College—Professors, Instructors, and Teachers; the Director of Academic Planning, Naval Postgraduate School; and the Librarian, Organist-Choirmaster, Registrar, the Dean of Admissions, and Social Counselors at the Naval Academy.

Chief of Naval Operations—One position at grade GS-12 or above that will provide technical, managerial, or administrative support on highly classified functions to the Deputy Chief of Naval Operations (Plans, Policy, and Operations).

Military Sealift Command—All positions on vessels operated by the Military Sealift Command.

Pacific Missile Range Facility, Barking Sands, Hawaii—All positions. This authority applies only to positions that must be filled pending final decision on contracting of Facility operations. No new appointments may be made under this authority after July 29, 1988.

Office of Naval Research—Scientific and technical positions, GS-13/15, in the Office of Naval Research International Field Office which covers satellite offices within the Far East, Africa, Europe, Latin America, and the South Pacific. Positions are to be filled by personnel having specialized experience in scientific and/or technical disciplines of current interest to the Department of the Navy.

29. Department of the Air Force.

Office of the Secretary—One Special Assistant in the Office of the Secretary of the Air Force. This position has advisory rather than operating duties except as operating or administrative responsibilities may be exercised in connection with the pilot studies.

General—Professional, technical, managerial and administrative positions supporting space activities, when approved by the Secretary of the Air Force.

One hundred eighty positions, serviced by Hill Air Force Base, Utah, engaged in interdepartmental activities in support of national defense projects involving scientific and technical evaluations.

Norton and McClellan Air Force Bases, California—Not to exceed 20 professional positions, GS-11 through GS-15, in Detachments 6 and 51, SM-ALC, Norton and McClellan Air Force Bases, California, which will provide logistic support management to specialized research and development projects.

U.S. Air Force Academy, Colorado—Positions of Professor, Associate Professor, Assistant Professor, and Instructor, in the Dean of Faculty, Commandant of Cadets, Director of Athletics, and Preparatory School of the United States Air Force Academy.

Air Force Office of Special Investigations—Positions of Criminal Investigators/Intelligence Research Specialists, GS-5 through GS-15, in the Air Force Office of Special Investigations.

Wright-Patterson Air Force Base, Ohio—Not to exceed eight positions, GS-12 through 15, in Headquarters Air Force Logistics Command, DCS Material Management, Office of Special Activities, Wright-Patterson Air Force Base, Ohio, which will provide logistics support management staff guidance to classified research and development projects.

Air University, Maxwell Air Force Base, Alabama—Positions of Professor, Instructor, or Lecturer.

Air Force Institute of Technology, Wright-Patterson Air Force Base, Ohio—Civilian Deans and Professors.

Air Force Logistics Command—One Supervisory Logistics Management Specialist, GM-346-14, in Detachment 2, 2762 Logistics Management Squadron (Special), Greenville, Texas.

2762nd Logistics Squadron (Special)—One Supervisory Logistics Management Specialist, GS-346-15, in the 2762nd Logistics Squadron (Special), at Wright-Patterson Air Force Base, Ohio.

Air National Guard Readiness Center—One Commander, Air National Guard Readiness Center, Andrews Air Force Base, Maryland.

30. Department of Justice.

General—Deputy U.S. Marshals employed on an hourly basis for intermittent service. Positions at GS-15 and below on the staff of an office of a special counsel. Positions of Program Manager and Assistant Program Manager supporting the International Criminal Investigative Training Assistance Program in foreign countries.

Immigration and Naturalization Service—Not to exceed 500 positions of interpreters and language specialists, GS-1040-5/9.

Not to exceed 25 positions, GS-15 and below, with proficiency in speaking, reading, and writing the Russian language and serving in the Soviet Refugee Processing Program with permanent duty location in Moscow, Russia.

Drug Enforcement Administration—Four hundred positions of Intelligence Research Agent and/or Intelligence Operations Specialist in the GS-132 series, grades GS-9 through GS-15. Not to exceed 200 positions of Criminal Investigator (Special Agent). New appointments may be made under this authority only at grades GS-7/11.

National Drug Intelligence Center—All positions.

31. Department of Homeland Security.

Up to 50 positions at the GS-5 through GS-15 grade levels at the Department of Homeland Security. No new appointments may be made under this authority after September 30, 2005.

Ten positions for oversight policy and direction of sensitive law enforcement activities.

Up to 15 Senior Level and General Schedule (or equivalent) positions within the Homeland Security Labor Relations Board and the Homeland Security Mandatory Removal Board.

32. Department of the Interior.

General—Technical, maintenance, and clerical positions at or below grades GS-7, WG-10, or equivalent, in the field service of the Department of the Interior, when filled by the appointment of persons who are certified as maintaining a permanent and exclusive residence within, or contiguous to, a field activity or district, and as being dependent for livelihood primarily upon employment available within the field activity of the Department.

All positions on Government-owned ships or vessels operated by the Department of the Interior.

Temporary or seasonal caretakers at temporarily closed camps or improved areas to maintain grounds, buildings, or other structures and prevent damages or theft of Government property. Such appointments shall not extend beyond 130 working days a year without the prior approval of OPM. Temporary, intermittent, or seasonal field assistants at GS-7, or its equivalent, and below in such areas as forestry, range management, soils, engineering, fishery and wildlife management, and with surveying parties.

Temporary positions established in the field service of the Department for emergency forest and range fire prevention or suppression and blister rust control not to exceed 180 working days a year: Provided that an employee may work as many as 220 working days a year when employment beyond 180 days is required to cope with extended fire seasons or sudden emergencies such as fire, flood, storm, or other unforeseen situations involving potential loss of life or property. Persons employed in field positions, the work of which is financed jointly by the Department of the Interior and cooperating persons or organizations outside the Federal service.

All positions in the Bureau of Indian Affairs and other positions in the Department of the Interior directly and primarily related to providing services to Indians when filled by the appointment of Indians. The Secretary of the Interior is responsible for defining the term “Indian.”

Temporary, intermittent, or seasonal positions at GS-7 or below in Alaska, as follows: Positions in nonprofessional mining activities, such as those of drillers, miners, caterpillar operators, and samplers. Employment under this authority shall not exceed 180 working days a year and shall be appropriate only when the activity is carried on in a remote or isolated area and there is a shortage of available candidates for the positions.

Temporary, part-time, or intermittent employment of mechanics, skilled laborers, equipment operators and tradesmen on construction, repair, or maintenance work not to exceed 180 working days a year in Alaska, when the activity is carried on in a remote or isolated area and there is a shortage of available candidates for the positions.

Seasonal airplane pilots and airplane mechanics in Alaska, not to exceed 180 working days a year. Temporary staff positions in the Youth Conservation Corps Centers operated by the Department of the Interior. Employment under this authority shall not exceed 11 weeks a year except with prior approval from OPM.

Positions in the Youth Conservation Corps for which pay is fixed at the Federal minimum wage rate. Employment under this authority may not exceed 10 weeks.

Indian Arts and Crafts Board—The Executive Director.

Office of the Assistant Secretary, Territorial and International Affairs—Not to exceed four positions of Territorial Management Interns, grades GS-5, GS-7, or GS-9, when filled by territorial residents who are U.S. citizens from the Virgin Islands or Guam; U.S. nationals from American Samoa; or in the case of the Northern Marianas, will become U.S. citizens upon termination of the U.S. trusteeship. Employment under this authority may not exceed 6 months.

Special Assistants to the Governor of American Samoa who perform specialized administrative, professional, technical, and scientific duties as members of his or her immediate staff.

National Park Service—Positions established for the administration of Kalaupapa National Historic Park, Molokai, Hawaii, when filled by appointment of qualified patients and Native Hawaiians, as provided by Public Law 95-565.

Seven full-time permanent and 31 temporary, part-time, or intermittent positions in the Redwood National Park, California, which are needed for rehabilitation of the park, as provided by Public Law 95-250.

One Special Representative of the Director.

All positions in the Grand Portage National Monument, Minnesota, when filled by the appointment of recognized members of the Minnesota Chippewa Tribe.

Bureau of Reclamation—Appraisers and examiners employed on a temporary, intermittent, or part-time basis on special valuation or prospective-entrymen-review projects where knowledge of local values on conditions or other specialized qualifications not possessed by regular Bureau employees are required for successful results. Employment under this provision shall not exceed 130 working days a year in any individual case: Provided that such employment may, with prior approval from OPM, be extended not to exceed an additional 50 working days in any single year.

Office of the Deputy Assistant Secretary for Territorial Affairs—Positions of Territorial Management Interns, GS-5, when filled by persons selected by the Government of the Trust Territory of the Pacific Islands. No appointment may extend beyond 1 year.

33. Department of Agriculture.

General—Agents employed in field positions, the work of which is financed jointly by the Department and cooperating persons, organizations, or governmental agencies outside the Federal service. Except for positions for which selection is jointly made by the Department and the cooperating organization, this authority is not applicable to positions in the Agricultural Research Service or the National Agricultural Statistics Service. This authority is not applicable to the following positions in the Agricultural Marketing Service: Agricultural commodity grader (grain and meat, poultry, and dairy), agricultural commodity aid (grain), and tobacco inspection positions.

Temporary, intermittent, or seasonal employment in the field service of the Department in positions at and below GS-7 and WG-10 in the following types of positions: Field assistants for sub professional services; agricultural helpers, helper-leaders, and workers in the Agricultural Research Service and the Animal and Plant Health Inspection Service; and subject to prior OPM approval granted in the calendar year in which the appointment is to be made, other clerical, trades, crafts, and manual labor positions. Total employment under this subparagraph may not exceed 180 working days in a service year: Provided, that an employee may work as many as 220 working days in a service year when employment beyond 180 days is required to cope with extended fire seasons or sudden emergencies such as fire, flood, storm, or other unforeseen situations involving potential loss of life or property. This paragraph does not cover trades, crafts, and manual labor positions covered by paragraph (i) of Sec. 213.3102 or positions within the Forest Service.

Farm Service Agency—Members of State Committees: Provided, that employment under this authority shall be limited to temporary intermittent (WAE) positions whose principal duties involve administering farm programs within the State consistent with legislative and Departmental requirements and reviewing national procedures and policies for adaptation at State and local levels within established parameters. Individual appointments under this authority are for 1 year and may be extended only by the Secretary of Agriculture or his designee. Members of State Committees serve at the pleasure of the Secretary.

Rural Development—County committeemen to consider, recommend, and advise with respect to the Rural Development program.

Professional and clerical positions in the Trust Territory of the Pacific Islands when occupied by indigenous residents of the Territory to provide financial assistance pursuant to current authorizing statutes.

Agricultural Marketing Service—Positions of Agricultural Commodity Graders, Agricultural Commodity Technicians, and Agricultural Commodity Aids at grades GS-9 and below in the tobacco, dairy, and poultry commodities; Meat Acceptance Specialists, GS-11 and below; Clerks, Office Automation Clerks, and Computer Clerks at GS-5 and below; Clerk-Typists at grades GS-4 and below; and Laborers under the Wage System. Employment under this authority is limited to either 1,280 hours or 180 days in a service year.

Positions of Agricultural Commodity Graders, Agricultural Commodity Technicians, and Agricultural Commodity Aids at grades GS-11 and below in the cotton, raisin, peanut, and processed and fresh fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of 6 months for training without regard to the service year limitation.

Milk Market Administrators: All positions on the staffs of the Milk Market Administrators.

Food Safety and Inspection Service—Positions of Meat and Poultry Inspectors (Veterinarians at GS-11 and below and non-Veterinarians at appropriate grades below GS-11) for employment on a temporary, intermittent, or seasonal basis, not to exceed 1,280 hours a year.

Grain Inspection, Packers and Stockyards Administration—One hundred and fifty positions of Agricultural Commodity Aid (Grain), GS-2/4; 100 positions of Agricultural Commodity Technician (Grain), GS-4/7; and 60 positions of Agricultural Commodity Grader (Grain), GS-5/9, for temporary employment on a part-time, intermittent, or seasonal basis not to exceed 1,280 hours in a service year.

Alternative Agricultural Research and Commercialization Corporation—Executive Director.

34. Department of Commerce.

General—Not to exceed 50 scientific and technical positions whose duties are performed primarily in the Antarctic. Incumbents of these positions may be stationed in the continental United States for periods of orientation, training, analysis of data, and report writing.

Bureau of the Census—Managers, supervisors, technicians, clerks, interviewers, and enumerators in the field service, for time-limited employment to conduct a census. Current Program Interviewers employed in the field service.

Office of the Under Secretary for International Trade—Fifteen positions at GS-12 and above in specialized fields relating to international trade or commerce in units under the jurisdiction of the Under Secretary for International Trade. Incumbents will be assigned to advisory rather than to operating duties, except as operating and administrative responsibility may be required for the conduct of pilot studies or special projects.

Not to exceed 15 positions in grades GS-12 through GS-15, to be filled by persons qualified as industrial or marketing specialists; who possess specialized knowledge and experience in industrial production, industrial operations and related problems, market structure and trends, retail and wholesale trade practices, distribution channels and costs, or business financing and credit procedures applicable to one or more of the current segments of U.S. industry served by the Under Secretary for International Trade, and the subordinate components of his organization which are involved in domestic business matters.

National Oceanic and Atmospheric Administration—All civilian positions on vessels operated by the National Ocean Service. Temporary positions required in connection with the surveying operations of the field service of the National Ocean Service. Appointment to such positions shall not exceed 8 months in any 1 calendar year.

National Telecommunications and Information Administration—Thirty-eight professional positions in grades GS-13 through GS-15.

35. Department of Labor.

Office of the Secretary—Chairman and five members, Employees' Compensation Appeals Board. Chairman and eight members, Benefits Review Board.

Employment and Training Administration—Not to exceed 10 positions of Supervisory Manpower Development Specialist and Manpower Development Specialist, GS-7/15, in the Division of Indian and Native American Programs, when filled by the appointment of persons of one-fourth or more Indian blood. These positions require direct contact with Indian tribes and communities for the development and administration of comprehensive employment and training programs.

36. Department of Health and Human Services.

General—Intermittent positions, at GS-15 and below and WG-10 and below, on teams under the National Disaster Medical System including Disaster Medical Assistance Teams and specialty teams, to respond to disasters, emergencies, and incidents/events involving medical, mortuary and public health needs.

Public Health Service—Positions at Government sanatoria when filled by patients during treatment or convalescence.

Positions concerned with problems in preventive medicine financed or participated in by the Department of Health and Human Services and a cooperating State, county, municipality, incorporated organization, or an individual in which at least one-half of the expense is contributed by the participating agency either in salaries, quarters, materials, equipment, or other necessary elements in the carrying on of the work.

Not to exceed 50 positions associated with health screening programs for refugees.

All positions in the Public Health Service and other positions in the Department of Health and Human Services directly and primarily related to providing services to Indians when filled by the appointment of Indians. The Secretary of Health and Human Services is responsible for defining the term “Indian.”

Health care positions of the National Health Service Corps for employment of any one individual not to exceed 4 years of service in health manpower shortage areas.

Not to exceed 200 staff positions, GS-15 and below, in the Immigration Health Service, for an emergency staff to provide health related services to foreign entrants.

The President's Council on Physical Fitness—Four staff assistants.

37. Department of Education.

Positions concerned with problems in education financed and participated in by the Department of Education and a cooperating State educational agency, or university or college, in which there is joint responsibility for selection and supervision of employees, and at least one-half of the expense is contributed by the cooperating agency in salaries, quarters, materials, equipment, or other necessary elements in the carrying on of the work.

38. Board of Governors, Federal Reserve System.

All positions.

39. Department of Veterans Affairs.

Construction Division—Temporary construction workers paid from “purchase and hire” funds and appointed for not to exceed the duration of a construction project.

Alcoholism Treatment Units and Drug Dependence Treatment Centers—Not to exceed 400 positions of rehabilitation counselors, GS-3 through GS-11, in Alcoholism Treatment Units and Drug Dependence Treatment Centers, when filled by former patients.

Board of Veterans' Appeals—Positions, GS-15, when filled by a member of the Board. Except as provided by section 201(d) of Public Law 100-687, appointments under this authority shall be for a term of 9 years, and may be renewed.

Positions, GS-15, when filled by a non-member of the Board who is awaiting Presidential approval for appointment as a Board member.

Vietnam Era Veterans Readjustment Counseling Service—Not to exceed 600 positions at grades GS-3 through GS-11, involved in the Department's Vietnam Era Veterans Readjustment Counseling Service.

40. Small Business Administration.

When the President under 42 U.S.C. 1855-1855g, the Secretary of Agriculture under 7 U.S.C. 1961, or the Small Business Administration under 15 U.S.C. 636(b)(1) declares an area to be a disaster area, positions filled by time-limited appointment of employees to make and administer disaster loans in the area under the Small Business Act, as amended. Service under this authority may not exceed 4 years, and no more than 2 years may be spent on a single disaster. Exception to this time limit may only be made with prior Office of Personnel Management approval.

Appointments under this authority may not be used to extend the 2-year service limit contained below. No one may be appointed under this authority to positions engaged in long-term maintenance of loan portfolios.

When the President under 42 U.S.C. 1855-1855g, the Secretary of Agriculture under 7 U.S.C. 1961, or the Small Business Administration under 15 U.S.C. 636(b)(1) declares an area to be a disaster area, positions filled by time-limited appointment of employees to make and administer disaster loans in that area under the Small Business Act, as amended. No one may serve under this authority for more than an aggregate of 2 years without a break in service of at least 6 months. Persons who have had more than 2 years of service under paragraph (a) of this section must have a break in service of at least 8 months following such service before appointment under this authority. No one may be appointed under this authority to positions engaged in long-term maintenance of loan portfolios.

41. Federal Deposit Insurance Corporation.

Temporary or time-limited positions located at closed banks or savings and loan institutions that are concerned with liquidating the assets of the institutions, liquidating loans to the institutions, or paying the depositors of closed insured institutions. Appointments under this authority may not exceed 4 years.

42. U.S. Soldiers' and Airmen's Home.

Positions when filled by member-residents of the Home.

43. Selective Service System.

State Directors.

44. National Aeronautics and Space Administration.

One hundred and fifty alien scientists having special qualifications in the fields of aeronautical and space research where such employment is deemed by the Administrator of the National Aeronautics and Space Administration to be necessary in the public interest.

45. Social Security Administration.

Six positions of Social Insurance Representative in the district offices of the Social Security Administration in the State of Arizona when filled by the appointment of persons of one-fourth or more Indian blood.

Seven positions of Social Insurance Representative in the district offices of the Social Security Administration in the State of New Mexico when filled by the appointment of persons of one-fourth or more Indian blood.

Two positions of Social Insurance Representative in the district offices of the Social Security Administration in the State of Alaska when filled by the appointments of persons of one-fourth or more Alaskan Native blood (Eskimos, Indians, or Aleuts).

46. The President's Crime Prevention Council.

Up to 7 positions established in the President's Crime Prevention Council office created by the Violent Crime Control and Law Enforcement Act of 1994. No new appointments may be made under this authority after March 31, 1998.

47. Chemical Safety and Hazard Investigation Board.

Seven positions of either Chemical Incident Investigators or Chemical Safety Recommendation Specialists, in the Office of Investigations and Safety Programs. No new appointments may be made under this authority after October 15, 2002, or until the seventh person (who was given an offer of employment on September 13, 2002, and is waiting a physical examination clearance) is appointed, whichever is later.

48. Court Services and Offender Supervision Agency of the District of Columbia.

All positions, except for the Director, established to create the Court Services and Offender Supervision Agency of the District of Columbia. No new appointments may be made under this authority after March 31, 2004.

49. Millennium Challenge Corporation.

Positions of Resident Country Directors and Deputy Resident Country Directors. The length of appointments will correspond to the length or term of the compact agreements made between the Millennium Challenge Corporation (MCC) and the country in which MCC will work, plus one additional year to cover pre- and post-compact agreement related activities.

50. Smithsonian Institution.

All positions located in Panama which are part of or which support the Smithsonian Tropical Research Institute.

Positions at GS-15 and below in the National Museum of the American Indian requiring knowledge of, and experience in, tribal customs and culture. Such positions comprise approximately 10 percent of the Museum's positions and, generally, do not include secretarial, clerical, administrative, or program support positions.

51. Woodrow Wilson International Center for Scholars.

One Asian Studies Program Administrator, one International Security Studies Program Administrator, one Latin American Program Administrator, one Russian Studies Program Administrator, one West European Program Administrator, one Environmental Change & Security Studies Program Administrator, one United States Studies Program Administrator, two Social Science Program Administrators, and one Middle East Studies Program Administrator.

52. Community Development Financial Institutions Fund.

All positions in the Fund and positions created for the purpose of establishing the Fund's operations in accordance with the Community Development Banking and Financial Institutions Act of 1994, except for any positions required by the Act to be filled by competitive appointment. No new appointments may be made under this authority after September 23, 1998.

53. Utah Reclamation and Conservation Commission.

Executive Director.

54. National Foundation on the Arts and the Humanities.

National Endowment for the Arts—Artistic and related positions at grades GS-13 through GS-15 engaged in the review, evaluation and administration of applications and grants supporting the arts, related research and assessment, policy and program development, arts education, access programs and advocacy or evaluation of critical arts projects and outreach programs. Duties require artistic stature, in-depth knowledge of arts disciplines and/or artistic-related leadership qualities.

55. African Development Foundation.

One Enterprise Development Fund Manager.

56. Office of Personnel Management.

Part-time and intermittent positions of test examiners at grades GS-8 and below.

57. Department of Transportation.

U.S. Coast Guard—Lamplighters. Professors, Associate Professors, Assistant Professors, Instructors, one Principal Librarian, one Cadet Hostess, and one Psychologist (Counseling) at the Coast Guard Academy, New London, Connecticut.

Maritime Administration—All positions on Government-owned vessels or those bareboats chartered to the Government and operated by or for the Maritime Administration.

U.S. Merchant Marine Academy, positions of: Professors, Instructors, and Teachers, including heads of Departments of Physical Education and Athletics, Humanities, Mathematics and Science, Maritime Law and Economics, Nautical Science, and Engineering; Coordinator of Shipboard Training; the Commandant of Midshipmen, the Assistant Commandant of Midshipmen; Director of Music; three Battalion Officers; three Regimental Affairs Officers; and one Training Administrator.

U.S. Merchant Marine Academy positions of: Associate Dean; Registrar; Director of Admissions; Assistant Director of Admissions; Director, Office of External Affairs; Placement Officer; Administrative Librarian; Shipboard Training Assistant; three Academy Training Representatives; and one Education Program Assistant.

58. Federal Emergency Management Agency.

Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort.

Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least 6 months have elapsed since the individual's latest appointment under this authority.

Not to exceed 350 professional and technical positions at grades GS-5 through GS-15, or equivalent, in Mobile Emergency Response Support Detachments (MERS).

59. Temporary Organizations.

Positions on the staffs of temporary organizations, as defined in 5 U.S.C. 3161(a). Appointments may not exceed 3 years, but temporary organizations may extend the appointments for 2 additional years if the conditions for extension are related to the completion of the study or project.

The following listing summarizes the Schedule B excepted authorities authorized for Government-wide use. These authorities are codified in 5 CFR part 213. These excepted authorities are current as of June 30, 2009. Please consult 5 CFR, part 213 to read the full authority.

Schedule B

The following are Schedule B authorities that are authorized for use by the entire Executive Civil Service:

1. Student Educational Employment Program—Student Temporary Employment Program.

2. Student Educational Employment Program—Student Career Experience Program.

3. Special executive development positions established in connection with Senior Executive Service candidate development programs which have been approved by OPM.

4. Positions when filled under any of the following conditions:

a. Appointment at grades GS-15 and above, or equivalent, in the same or a different agency without a break in service from a career appointment in the Senior Executive Service (SES) of an individual who has completed the SES probationary period; been removed from the SES because of less than fully successful executive performance, failure to be recertified, or a reduction in force; and is entitled to be placed in another civil service position under 5 U.S.C. 3594(b).

b. Appointment in a different agency without a break in service of an individual originally appointed under this paragraph.

c. Reassignment, promotion, or demotion within the same agency of an individual appointed under this authority.

5. Positions when filled by preference eligibles or veterans who have been separated from the armed forces under honorable conditions after 3 years or more of continuous active service and who, in accordance with 5 U.S.C. 3304(f) (Pub. L. 105-339), applied for these positions under merit promotion procedures when applications were being accepted by the agency from individuals outside its own workforce. These veterans may be promoted, demoted, or reassigned, as appropriate, to other positions within the agency but would remain employed under this excepted authority as long as there is no break in service. No new appointments may be made under this authority after November 30, 1999.

6. The Federal Career Intern Program.

The following summary of Schedule B exceptions, current as of June 30, 2009, are agency-specific and are not codified in the Code of Federal Regulations (CFR). Agencies should consult with their headquarters to read the full authority.

7. Executive Office of the President.

Office of the Special Representative for Trade Negotiations—Seventeen positions of economist at grades GS-12 through GS-15.

8. Department of State.

One non-permanent senior level position to serve as Science and Technology Advisor to the Secretary.

Fourteen positions on the household staff of the President's Guest House (Blair and Blair-Lee Houses).

Scientific, professional, and technical positions at grades GS-12 to GS-15 when filled by persons having special qualifications in foreign policy matters.

9. Department of the Treasury.

Positions of Deputy Comptroller of the Currency, Chief National Bank Examiner, Assistant Chief National Bank Examiner, Regional Administrator of National Banks, Deputy Regional Administrator of National Banks, Assistant to the Comptroller of the Currency, National Bank Examiner, Associate National Bank Examiner, and Assistant National Bank Examiner, whose salaries are paid from assessments against national banks and other financial institutions.

Positions concerned with the protection of the life and safety of the President and members of his immediate family, or other persons for whom similar protective services are prescribed by law, when filled in accordance with special appointment procedures approved by OPM.

Positions, grades GS-5 through GS-12, of Treasury Enforcement Agent in the Bureau of Alcohol, Tobacco, and Firearms; and Treasury Enforcement Agent, Pilot, Marine Enforcement Officer, and Aviation Enforcement Officer in the U.S. Customs Service. Service under this authority may not exceed 3 years and 120 days.

10. Department of Defense.

Office of the Secretary—Professional positions at GS-11 through GS-15 involving systems, costs, and economic analysis functions in the Office of the Assistant Secretary (Program Analysis and Evaluation); and in the Office of the Deputy Assistant Secretary (Systems Policy and Information) in the Office of the Assistant Secretary (Comptroller).

Four Net Assessment Analysts.

Interdepartmental activities—Six positions to provide general administration, general art and information, photography, and/or visual information support to the White House Photographic Service.

Eight positions, GS-15 or below, in the White House Military Office, providing support for airlift operations, special events, security, and/or administrative services to the Office of the President.

National Defense University—Sixty-one positions of Professor, GS-13/15, for employment of any one individual on an initial appointment not to exceed 3 years, which may be renewed in any increment from 1 to 6 years indefinitely thereafter.

General—One position of Law Enforcement Liaison Officer (Drugs), GS-301-15, U.S. European Command.

Acquisition positions at grades GS-5 through GS-11, whose incumbents have successfully completed the required course of education as participants in the Department of Defense scholarship program authorized under 10 U.S.C. 1744.

Office of the Inspector General—Positions of Criminal Investigator, GS-1811-5/15.

Department of Defense Polygraph Institute, Fort McClellan, Alabama—One Director, GM-15.

Defense Security Assistance Agency—All faculty members with instructor and research duties at the Defense Institute of Security Assistance Management, Wright Patterson Air Force Base, Dayton, Ohio.

11. Department of the Army.

U.S. Army Command and General Staff College—Seven positions of professors, instructors, and education specialists. Total employment of any individual under this authority may not exceed 4 years.

12. Department of the Navy.

Naval Underwater Systems Center, New London, Connecticut—One position of Oceanographer, grade GS-14, to function as project director and manager for research in the weapons systems applications of ocean eddies.

Armed Forces Staff College, Norfolk, Virginia—All civilian faculty positions of professors, instructors, and teachers on the staff of the Armed Forces Staff College, Norfolk, Virginia.

Defense Personnel Security Research and Education Center—One Director and four Research Psychologists at the professor or GS-15 level in the Defense Personnel Security Research and Education Center.

Marine Corps Command and Staff College—All civilian professor positions at the Marine Corps Command and Staff College.

Executive Dining facilities at the Pentagon—One position of Staff Assistant, GS-301, whose incumbent will manage the Navy's Executive Dining facilities at the Pentagon.

Bachelor Quarters Management Study—One position of Housing Management Specialist, GM-1173-14, involved with the Bachelor Quarters Management Study. No new appointments may be made under this authority after February 29, 1992.

13. Department of the Air Force.

Air Research Institute at the Air University, Maxwell Air Force Base, Alabama—Not to exceed four interdisciplinary positions for the Air Research Institute at the Air University, Maxwell Air Force Base, Alabama, for employment to complete studies proposed by candidates and acceptable to the Air Force.

Air University—Positions of Instructor or professional academic staff at the Air University associated with courses of instruction of varying durations, for employment not to exceed 3 years, which may be renewed for an indefinite period thereafter.

U.S. Air Force Academy, Colorado—One position of Director of Development and Alumni Programs, GS-301-13, with the U.S. Air Force Academy, Colorado.

14. Department of Justice.

Drug Enforcement Administration—Criminal Investigator (Special Agent) positions in the Drug Enforcement Administration. New appointments may be made under this authority only at grades GS-5 through GS-11. Service under the authority may not exceed 4 years. Appointments made under this authority may be converted to career or career-conditional appointments under the provisions of Executive Order 12230, subject to conditions agreed upon between the Department and OPM.

Not to exceed 400 positions at grades GS-5 through GS-15 assigned to regional task forces established to conduct special investigations to combat drug trafficking and organized crime.

United States Trustees—Positions, other than secretarial, GS-6 through GS-15, requiring knowledge of the bankruptcy process, on the staff of the offices of United States Trustees or the Executive Office for U.S. Trustees.

15. Department of Agriculture.

Foreign Agricultural Service—Positions of a project nature involved in international technical assistance activities. Service under this authority may not exceed 5 years on a single project for any individual unless delayed completion of a project justifies an extension up to but not exceeding 2 years.

General—Temporary positions of professional Research Scientists, GS-15 or below, in the Agricultural Research Service, Economic Research Service, and the Forest Service, when such positions are established to support the Research Associateship Program and are filled by persons having a doctoral degree in an appropriate field of study for research activities of mutual interest to appointees and the agency. Appointments are limited to proposals approved by the appropriate Administrator. Appointments may be made for initial periods not to exceed 2 years and may be extended for up to 2 additional years. Extensions beyond 4 years, up to a maximum of 2 additional years, may be granted, but only in very rare and unusual circumstances, as determined by the Human Resources Officer for the Research, Education, and Economics Mission Area, or the Human Resources Officer, Forest Service.

Not to exceed 55 Executive Director positions, GM-301-14/15, with the State Rural Development Councils in support of the Presidential Rural Development Initiative.

16. Department of Commerce.

Bureau of the Census—Not to exceed 50 Community Services Specialist positions at the equivalent of GS-5 through GS-12.

National Telecommunications and Information Administration—Not to exceed 10 positions of Telecommunications Policy Analysts, grades GS-11 through GS-15.

17. Department of Labor.

Administrative Review Board—Chair and a maximum of four additional Members.

Bureau of International Labor Affairs—Positions in the Office of Foreign Relations, which are paid by outside funding sources under contracts for specific international labor market technical assistance projects. Appointments under this authority may not be extended beyond the expiration date of the project.

18. Department of Education.

Seventy-five positions, not to exceed GS-13, of a professional or analytical nature when filled by persons, other than college faculty members or candidates working toward college degrees, who are participating in mid-career development programs authorized by Federal statute or regulation, or sponsored by private nonprofit organizations, when a period of work experience is a requirement for completion of an organized study program.

Fifty positions, GS-7 through GS-11, concerned with advising on education policies, practices, and procedures under unusual and abnormal conditions. Persons employed under this provision must be bona fide elementary school and high school teachers.

19. Department of Veterans Affairs.

Not to exceed 800 principal investigatory, scientific, professional, and technical positions at grades GS-11 and above in the medical research program.

Not to exceed 25 Criminal Investigator (Undercover) positions, GS-1811, GS-5 through GS-12, conducting undercover investigations in the Veterans Health Administration supervised by the VA, Office of Inspector General.

20. Broadcasting Board of Governors.

International Broadcasting Bureau—Not to exceed 200 positions at grades GS-15 and below in the Office of Cuba Broadcasting. Appointments may not be made under this authority to administrative, clerical, and technical support positions.

21. U.S. Soldiers' and Airmen's Home.

Director, Health Care Services; Director, Member Services; Director, Logistics; and Director, Plans and Programs.

22. National Archives and Records Administration.

Executive Director, National Historical Publications and Records Commission.

23. National Aeronautics and Space Administration.

Not to exceed 40 positions of Astronaut Candidates at grades GS-11 through GS-15. Employment under this authority may not exceed 3 years.

24. Social Security Administration.

Temporary and time-limited positions in the Ticket to Work and Work Incentives Advisory Panel. No employees may be appointed after November 17, 2007.

25. Smithsonian Institution.

Freer Gallery of Art—Not to exceed four positions of Oriental Art Restoration Specialist at grades GS-9 through GS-15.

26. Appalachian Regional Commission.

Two Program Coordinators.

27. Armed Forces Retirement Home.

Naval Home, Gulfport, Mississippi—One Resource Management Officer position and one Public Works Officer position, GS/GM-15 and below.

28. National Foundation on the Arts and the Humanities.

National Endowment for the Humanities—Professional positions at grades GS-11 through GS-15 engaged in the review, evaluation, and administration of grants supporting scholarship, education, and public programs in the humanities, the duties of which require in-depth knowledge of a discipline of the humanities.

29. Office of Personnel Management.

Not to exceed eight positions of Associate Director at the Executive Seminar Centers at grades GS-13 and GS-14. Appointments may be made for any period up to 3 years and may be extended without prior approval for any individual. Not more than half of the authorized faculty positions at any one Executive Seminar Center may be filled under this authority.

Twelve positions of faculty members at grades GS-13 through GS-15, at the Federal Executive Institute.

The following summary of Schedule C exceptions, current as of June 30, 2009, are agency-specific and are not codified in the Code of Federal Regulations.

Schedule C

Office of Government Ethics

GGGS02900 Confidential Assistant to the Director

Office of Management and Budget

BOGS60027 Confidential Assistant to the Administrator, Office of Information and Regulatory Affairs

BOGS90010 Confidential Assistant to the Director, Office of Management and Budget

BOGS90011 Confidential Assistant to the Chief of Staff

BOGS90012 Special Assistant to the Deputy Director, Office of Management and Budget

BOGS90014 Special Assistant to the Director, Office of Management and Budget

BOGS90015 Special Assistant to the Director, Office of Management and Budget

BOGS90016 Confidential Assistant to the Executive Associate Director and Associate Director for Economic Policy

BOGS90017 Confidential Assistant to the Associate Director for General Government Programs

BOGS90018 Confidential Assistant to the Associate Director for National Security Programs

BOGS90019 Confidential Assistant to the Director, Office of Management and Budget

BOGS90021 Confidential Assistant to the Deputy Director, Office of Management and Budget

BOGS90022 Confidential Assistant to the Associate Director, Strategic Planning and Communications

BOGS90024 Confidential Assistant to the Associate Director for Legislative Affairs

BOGS90025 Special Assistant to the Director, Office of Management and Budget

BOGS90026 Confidential Assistant to the Associate Director for Education, Income Maintenance and Labor

BOGS90027 Confidential Assistant to the Associate Administrator

BOGS90028 Confidential Assistant to the Director, Office of Management and Budget

BOGS90029 Confidential Assistant to the General Counsel

BOGS90031 Deputy to the Associate Director for Legislative Affairs (House)

BOGS90032 Deputy Press Secretary to the Associate Director, Strategic Planning and Communications

BOGS90033 Deputy to the Associate Director for Legislative Affairs (House)

Office of National Drug Control Policy

QQGS90001 Confidential Assistant to the Director

QQGS90002 Program Support Specialist (Office of Public Affairs) to the Chief of Staff

QQGS90003 Policy Analyst to the Deputy Director for State, Local and Tribal Affairs

Office of Personnel Management

PMGS31230 Deputy Chief of Staff

PMGS31255 Deputy Chief of Staff to the Chief of Staff and Director of External Affairs

PMGS31263 Senior Advisor to the Director

PMGS31265 Counselor to the Director of External Affairs

PMGS31267 Senior Advisor to the Director

PMGS31315 Senior Policy Counsel to the General Counsel

PMGS31316 Special Assistant to the Director

PMGS31318 Speech Writer to the Director, Office of Communications and Public Liaison

PMGS31335 Public Affairs Specialist to the Director, Office of Communications and Public Liaison

PMGS31346 Public Affairs Specialist to the Director, Office of Communications and Public Liaison

PMGS31347 Public and Congressional Affairs Specialist to the Director, Office of Congressional Relations

PMGS31348 Congressional Relations Officer to the Director, Office of Congressional Relations

PMGS31350 Public Affairs Specialist to the Director, Office of Communications and Public Liaison

Official Residence of the Vice President

RVGS00005 Deputy Social Secretary and Residence Manager to the Assistant to the Vice President and Deputy Chief of Staff

Office of Science and Technology Policy

TSGS09001 Executive Assistant to the Assistant to the President for Science and Technology

Office of the United States Trade Representative

TNGS00007 Public Affairs Specialist to the Assistant United States Trade Representative for Public and Media Affairs

TNGS70002 Special Assistant to the Deputy United States Trade Representative

TNGS90001 Deputy Assistant United States Trade Representative to the Assistant United States Trade Representative for Intergovernmental Affairs and Public Liaison

TNGS90002 Congressional Affairs Specialist to the Assistant United States Trade Representative for Congressional Affairs

TNGS90003 Personal Assistant to the United States Trade Representative

TNGS90004 Deputy Assistant United States Trade Representative to the Assistant United States Trade Representative for Public and Media Affairs

TNGS90005 Confidential Assistant to the Chief of Staff

TNGS90006 Deputy Assistant United States Trade Representative to the Assistant United States Trade Representative for Congressional Affairs

TNGS90008 Writer-Editor to the Assistant United States Trade Representative for Public and Media Affairs

President's Commission on White House Fellowships

WHGS00018 Special Assistant to the Director, President's Commission on White House Fellowships

WHGS00020 Staff Assistant to the Associate Director

WHGS31270 Associate Director to the Director, President's Commission on White House Fellowships

WHGS31271 Staff Assistant to the Director, President's Commission on White House Fellowships

WHGS31288 Education Director to the Director, President's Commission on White House Fellowships

Department of State

DSGS61224 Legislative Management Officer to the Assistant Secretary for Legislative and Intergovernmental Affairs

DSGS64833 Protocol Officer, Ceremonials to the Chief of Protocol

DSGS69798 Staff Assistant to the Deputy Secretary

DSGS69800 Staff Assistant to the Director, Policy Planning Staff

DSGS69801 Staff Assistant to the Special Advisor for the Gulf and Southwest Asia

DSGS69805 Special Assistant to the Director, Policy Planning Staff

DSGS69808 Staff Assistant to the Deputy Secretary

DSGS69809 Staff Assistant to the Assistant Secretary for Public Affairs

DSGS69810 Staff Assistant to the Assistant Secretary for Public Affairs

DSGS69811 Confidential Assistant to the Secretary of State

DSGS69812 Special Assistant/Speechwriter to the Director, Policy Planning Staff

DSGS69813 Staff Assistant to the Under Secretary for Management

DSGS69816 Special Assistant to the Secretary of State

DSGS69817 Staff Assistant to the Chief of Protocol

DSGS69818 Staff Assistant to the Secretary of State

DSGS69820 Staff Assistant to the Director, Policy Planning Staff

DSGS69822 Staff Assistant to the Secretary of State

DSGS69825 IT Specialist—Policy and Planning to the Under Secretary for Management

DSGS69829 White House Liaison to the Under Secretary for Management

DSGS69830 Senior Advisor to the Under Secretary for Public Diplomacy and Public Affairs

DSGS69834 Program Assistant, Visits to the Chief of Protocol

DSGS69836 Assistant Chief of Protocol, Ceremonials to the Chief of Protocol

DSGS69837 Staff Assistant to the Secretary of State

DSGS69839 Staff Assistant to the Secretary of State

DSGS69843 Special Coordinator for Regional Affairs to the Secretary of State

DSGS69845 Deputy Chief of Staff for Operations to the Secretary of State

DSGS69847 Deputy Director to the Director, Policy Planning Staff

DSGS69848 Executive Assistant to the Deputy Secretary

DSGS69849 Staff Assistant to the Ambassador At Large and HIV/AIDS Coordinator

DSGS69850 Staff Assistant to the Under Secretary for Management

DSGS69851 Special Assistant to the Secretary of State

DSGS69852 Special Assistant to the Under Secretary for Public Diplomacy and Public Affairs

DSGS69853 Staff Assistant to the Assistant Secretary, Bureau of Educational and Cultural Affairs

DSGS69854 Policy Advisor/Chief Speechwriter to the Director, Policy Planning Staff

DSGS69857 Staff Assistant to the Under Secretary for Management

DSGS69858 Senior Advisor to the Assistant Secretary for Public Affairs

DSGS69859 Protocol Officer, Visits to the Chief of Protocol

DSGS69860 Staff Assistant to the Secretary of State

DSGS69861 Staff Assistant to the Under Secretary for Management

DSGS69862 Special Assistant to the Legal Adviser

DSGS69863 Deputy Chief of Staff for Policy to the Secretary of State

DSGS69864 Staff Assistant to the Deputy Chief of Staff for Operations

DSGS69865 Special Assistant to the Chief of Staff/Counselor

DSGS69866 Staff Assistant to the Assistant Secretary for Consular Affairs

DSGS69868 Deputy Assistant Secretary-House to the Assistant Secretary for Legislative and Intergovernmental Affairs

DSGS69869 Legislative Management Officer to the Assistant Secretary for Legislative and Intergovernmental Affairs

DSGS69871 Legislative Management Officer to the Assistant Secretary for Legislative and Intergovernmental Affairs

Department of State

DSGS69873 Legislative Management Officer to the Assistant Secretary for Legislative and Intergovernmental Affairs

DSGS69875 Confidential Assistant to the Secretary of State

DSGS69883 Staff Assistant to the Director, Policy Planning Staff

DSGS69884 Staff Assistant to the Assistant Secretary

DSGS69885 Staff Assistant to the Assistant Secretary for Legislative and Intergovernmental Affairs

DSGS69896 Chief of Staff to the Assistant Secretary for Legislative and Intergovernmental Affairs

DSGS69898 Special Assistant to the Secretary of State

DSGS69899 Staff Assistant to the Assistant Secretary for Near Eastern and South Asian Affairs

DSGS69902 Senior Advisor to the Assistant Secretary for Public Affairs

DSGS69903 Deputy Director, Overseas Buildings Operations to the Under Secretary for Management

DSGS69904 Director for Global and Functional Affairs to the Assistant Secretary for Legislative and Intergovernmental Affairs

DSGS69905 Special Assistant to the Secretary of State

DSGS69909 Supervisory Protocol Officer—Visits to the Chief of Protocol

DSGS69914 Senior Advisor to the Secretary of State

DSGS69915 Staff Assistant to the Secretary of State

DSGS69916 Special Assistant to the Assistant Secretary for Public Affairs

DSGS69918 Assistant Chief of Protocol to the Chief of Protocol

DSGS69942 Staff Assistant to the Secretary of State

DSGS69945 Staff Assistant to the Assistant Secretary for European and Eurasian Affairs

DSGS69946 Senior Advisor to the Director, Policy Planning Staff

DSGS69947 Assistant Chief of Protocol, (Visits) to the Deputy Chief of Protocol

DSGS69948 Deputy Assistant Secretary to the Assistant Secretary for Legislative and Intergovernmental Affairs

DSGS69949 Legislative Management Officer to the Assistant Secretary for Legislative and Intergovernmental Affairs

Department of the Treasury

DYGS00250 Deputy Assistant Secretary (Public Affairs Operations) to the Assistant Secretary for Public Affairs

DYGS00359 Senior Advisor to the Under Secretary for International Affairs

DYGS00372 Special Assistant to the Assistant Secretary for Financial Markets

DYGS00375 Director of Legislative and Governmental Affairs to the Director of the Mint

DYGS00384 Special Assistant to the Chief of Staff

DYGS00398 Senior Advisor to the Under Secretary for Domestic Finance

DYGS00407 Executive Assistant to the Senior Advisor

DYGS00413 White House Liaison to the Chief of Staff

DYGS00419 Special Assistant to the Executive Secretary

DYGS00423 Special Assistant to the Secretary

DYGS00424 Special Assistant to the Assistant Secretary (Economic Policy)

DYGS00430 Senior Advisor to the Assistant Secretary for Financial Markets

DYGS00434 Special Assistant to the Deputy Chief of Staff

DYGS00435 Executive Assistant to the Counselor to the Secretary

DYGS00436 Public Affairs Specialist to the Deputy Assistant Secretary for Public Affairs Operations

DYGS00446 Special Assistant to the Assistant Secretary (Deputy Under Secretary) for Legislative Affairs

DYGS00448 Special Assistant to the Senior Advisor

DYGS00450 Special Assistant to the Deputy Assistant Secretary for Public Affairs Operations

DYGS00457 Deputy Executive Secretary to the Executive Secretary

DYGS00459 Special Assistant to the Director of Legislative and Intergovernmental Affairs

DYGS00460 Senior Advisor and Chief of Staff to the Under Secretary for Terrorism and Financial Crimes

DYGS00461 Senior Advisor to the Assistant Secretary for Tax Policy

DYGS00464 Staff Assistant to the Assistant Secretary (Deputy Under Secretary) for Legislative Affairs

DYGS00468 Public Affairs Specialist to the Deputy Assistant Secretary for Public Affairs Operations

DYGS00479 Speechwriter

DYGS00482 Deputy Executive Secretary to the Executive Secretary

DYGS00483 Senior Advisor to the Assistant Secretary for Terrorist Financing

DYGS00486 Special Assistant to the Director of Scheduling and Advance

DYGS00487 Deputy Executive Secretary to the Executive Secretary

DYGS00490 Special Assistant to the Special Envoy for China and the Strategic Economic Dialogue

DYGS00494 Special Assistant to the Director of the Mint

DYGS00495 Associate Director of Operations for Advance to the Director of Operations

DYGS00496 Senior Advisor to the Deputy Assistant Secretary for Business Affairs and Public Liaison

DYGS00497 Senior Advisor to the Assistant Secretary for Financial Institutions

DYGS00499 Deputy Chief of Staff for External Affairs to the Chief of Staff for External Affairs

DYGS00501 Special Assistant to the Under Secretary for Domestic Finance

DYGS00503 Senior Advisor to the Director of the Mint

DYGS00504 Special Assistant to the Assistant Secretary for Financial Markets

DYGS00506 Special Assistant to the Chief of Staff

DYGS00507 Special Assistant to the Secretary

DYGS00508 Special Assistant to the Executive Secretary

DYGS00510 Senior Advisor to the Chief of Staff

DYGS00511 Special Assistant to the Counselor to the Secretary

DYGS00513 Senior Advisor to the Counselor to the Secretary

DYGS00514 Special Assistant to the Deputy Secretary of the Treasury

DYGS00515 Counselor to the Secretary to the Chief of Staff

DYGS00518 Public Affairs Specialist to the Deputy Assistant Secretary for Public Affairs Operations

DYGS00519 Financial Restructuring Specialist to the Counselor to the Secretary

DYGS00520 Special Assistant to the Assistant Secretary for Economic Policy

DYGS00844 Public Affairs Specialist to the Deputy Assistant Secretary for Public Affairs Operations

DYGS01377 Staff Assistant to the Director of Scheduling and Advance

DYGS60139 Director of Scheduling and Advance to the Chief of Staff

DYGS60277 Speechwriter to the Assistant Secretary for Public Affairs

DYGS60317 Public Affairs Specialist to the Assistant Secretary for Public Affairs

DYGS60351 Senior Advisor to the Assistant Secretary for Public Affairs

DYGS60381 Special Assistant to the Deputy Assistant Secretary for Legislative Affairs (Appropriations and Management)

DYGS60391 Advance Specialist to the Director of Scheduling and Advance

DYGS60412 Advance Specialist to the Director of Scheduling and Advance

DYGS60418 Special Assistant to the Executive Secretary

DYGS60421 Special Assistant to the Deputy Assistant Secretary for Legislative Affairs (Tax and Budget)

Department of Defense

DDGS16692 Confidential Assistant to the Secretary of Defense

DDGS16874 Confidential Assistant to the Assistant Secretary of Defense (Reserve Affairs)

DDGS16908 Civilian Executive Assistant to the Special Assistant to the Secretary of Defense for White House Liaison

DDGS16909 Staff Assistant to the Special Assistant to the Secretary of Defense for White House Liaison

DDGS16914 Personal and Confidential Assistant to the Deputy Secretary of Defense

DDGS16945 Defense Fellow to the Special Assistant to the Secretary of Defense for White House Liaison

DDGS16962 Speechwriter to the Principal Deputy Assistant Secretary of Defense for Public Affairs

DDGS16988 Executive Assistant to the Director, Operational Test and Evaluation

DDGS17001 Speechwriter to the Assistant Secretary of Defense Public Affairs

DDGS17002 Confidential Assistant to the Under Secretary of Defense Personnel and Readiness

DDGS17029 Administrative Assistant to the Special Assistant to the Secretary of Defense for White House Liaison

DDGS17030 Staff Assistant to the Deputy Assistant Secretary of Defense (North Atlantic Treaty Organization and Europe)

DDGS17039 Confidential Assistant to the Secretary of Defense

DDGS17064 Protocol Specialist to the Special Assistant to the Secretary of Defense (Protocol)

DDGS17071 Special Assistant to the Assistant Secretary of Defense (Legislative Affairs)

DDGS17079 Special Assistant to the Assistant Secretary of Defense (International Security Affairs)

DDGS17083 Confidential Assistant to the Special Assistant to the Secretary and Deputy Secretary of Defense

DDGS17089 Public Affairs Specialist to the Public Affairs Specialist

DDGS17122 Public Affairs Specialist to the Public Affairs Specialist

DDGS17131 Special Assistant to the Assistant Secretary of Defense (Special Operations/Low Intensity Conflict and Interdependent Capabilities)

DDGS17150 Special Assistant to the Secretary and Deputy Secretary of Defense

DDGS17151 Special Assistant to the Secretary of Defense for Protocol to the Secretary of Defense

DDGS17157 Special Assistant to the Deputy Under Secretary of Defense for Budget and Appropriations Affairs

DDGS17166 Special Assistant to the Secretary of Defense for White House Liaison

DDGS17169 Defense Fellow to the Secretary of Defense for White House Liaison

DDGS17184 Deputy White House Liaison to the Secretary of Defense for White House Liaison

DDGS17185 Staff Assistant to the Under Secretary of Defense for Policy

DDGS17186 Staff Assistant to the Principal Deputy Under Secretary of Defense for Policy

DDGS17190 Special Assistant to the General Counsel

DDGS17191 Senior Advisor to the General Counsel

DDGS17192 Special Assistant to the Deputy Under Secretary of Defense for Strategy, Plans and Forces

DDGS17193 Principal Director, Western Hemisphere to the Deputy Assistant Secretary of Defense (Western Hemisphere Affairs)

DDGS17194 Special Assistant to the Secretary of Defense for White House Liaison

DDGS17195 Special Assistant to the Under Secretary of Defense (Comptroller)

DDGS17196 Principal Director (African Affairs) to the Deputy Assistant Secretary of Defense (Africa)

DDGS17197 Senior Advisor to the Under Secretary of Defense (Policy)

DDGS17200 Principal Director for Central Asia to the Deputy Assistant Secretary of Defense (Central Asia)

DDGS17201 Staff Assistant to the Deputy Assistant Secretary of Defense for Public Affairs (Press Secretary)

DDGS17202 Principal Director, Nuclear and Missile Defense Policy to the Assistant Secretary of Defense (Global Strategic Affairs)

DDGS17203 Advance Officer to the Special Assistant to the Secretary and Deputy Secretary of Defense

DDGS17204 Confidential Assistant to the Deputy Secretary of Defense

DDGS17205 Special Assistant to the Assistant Secretary of Defense for Homeland Defense and Americas' Security Affairs

DDGS17206 Special Assistant to the Deputy Under Secretary of Defense (Budget and Appropriations Affairs)

DDGS17207 Defense Fellow to the Special Assistant to the Secretary of Defense for White House Liaison

DDGS17208 Special Assistant to the Under Secretary of Defense (Comptroller)

DDGS17209 Special Assistant to the Under Secretary of Defense (Acquisition, Technology, and Logistics)

DDGS17210 Special Assistant to the Assistant Secretary of Defense (International Security Affairs)

DDGS17211 Special Assistant to the Deputy Assistant Secretary of Defense (Middle East)

DDGS17212 Special Assistant to the Principal Deputy Under Secretary of Defense (Policy)

DDGS17213 Special Assistant to the Assistant Secretary of Defense (Reserve Affairs)

DDGS17214 Special Assistant to the Assistant to the Secretary of Defense (Nuclear, Chemical, and Biological Defense Programs)

DDGS17215 Special Assistant to the Assistant Secretary of Defense (Legislative Affairs)

DDGS17216 Special Assistant to the Deputy Assistant Secretary of Defense (Central Asia)

DDGS17217 Special Assistant to the Director of Net Assessment

DDGS17218 Special Assistant to the Assistant Secretary of Defense (Legislative Affairs)

DDGS17219 Special Assistant, Policy Support Division to the Assistant Secretary of Defense (Legislative Affairs)

DDGS17220 Special Assistant to the Deputy Assistant Secretary of Defense for South and Southeast Asia

DDGS17224 Special Assistant to the Deputy Assistant Secretary of Defense (Middle East)

DDGS17225 Special Assistant to the Assistant Secretary of Defense for Asian and Pacific Security Affairs

DDGS17226 Special Assistant to the Deputy Assistant Secretary of Defense for Western Hemisphere Affairs

DDGS17227 Special Assistant to the Assistant Secretary of Defense (Global Strategic Affairs)

DDGS17228 Special Assistant to the Deputy Assistant Secretary of Defense for Russia, Ukraine, and Eurasia Policy

DDGS17229 Special Assistant to the Deputy Assistant Secretary of Defense (Special Operations and Combating Terrorism) and (Special Operations/Low Intensity Conflict and Interdependent Capabilities)

DDGS17230 Advance Officer to the Secretary and Deputy Secretary for Defense

DDGS17231 Director, Advance Office to the Secretary and Deputy Secretary of Defense

DDGS60312 Director, Cooperative Threat Reduction to the Assistant Secretary of Defense (Global Strategic Affairs)

DDGS60369 Executive Assistant to the Director of Force Transformation

Department of the Army

DWGS00065 Special Assistant to the Deputy Assistant Secretary of the Army for Privatization and Partnerships

DWGS00077 Confidential Assistant to the Assistant Secretary of the Army (Civil Works)

DWGS00090 Special Assistant to the General Counsel

DWGS00092 Special Assistant to the General Counsel

DWGS00095 Personal and Confidential Assistant (Installations and Environment) to the Assistant Secretary of the Army (Installations and Environment)

DWGS00096 Personal and Confidential Assistant to the Deputy Under Secretary of the Army

DWGS60002 Special Assistant to the Secretary of the Army

DWGS60019 Business Transformation Initiatives Analyst to the Special Assistant for the Secretary of the Army

DWGS60024 Personal and Confidential Assistant to the Under Secretary the Army

DWGS60028 Personal and Confidential Assistant to the Assistant Secretary of the Army (Installations and Environment)

DWGS60032 Special Assistant to the Deputy Assistant Secretary of the Army (Environment, Safety and Occupational Health) to the General Counsel

DWGS60064 Personal and Confidential Assistant to the Principal Deputy Assistant Secretary of the Army (Manpower and Reserve Affairs) and (Training, Readiness and Mobilization)

DWGS60076 Special Assistant to the Assistant Secretary of the Army (Civil Works)

DWGS60086 Special Assistant to the General Counsel

DWGS60095 Special Assistant to the Principal Deputy Assistant Secretary of the Army (Civil Works) and (Legislation)

Department of the Navy

DNGS09030 Residential Manager and Social Secretary of the Vice President to the Under Secretary of the Navy

Department of Justice

DJGS00076 Public Affairs Specialist to the United States Attorney, Texas, Western District

DJGS00091 Staff Assistant to the Assistant Attorney General (Legislative Affairs)

DJGS00114 Special Assistant to the Attorney General

DJGS00143 Counsel to the Assistant Attorney General (Criminal Division)

DJGS00176 Public Affairs Specialist to the Director, Office of Public Affairs

DJGS00179 Counsel to the Principal Deputy Assistant Attorney General

DJGS00187 Counsel to the Assistant Attorney General (Civil Division)

DJGS00193 Senior Counsel to the Assistant Attorney General (Legal Policy)

DJGS00200 Senior Counsel to the Assistant Attorney General (Criminal Division)

DJGS00204 Senior Counsel to the Deputy Attorney General

DJGS00275 Senior Counsel to the Assistant Attorney General (Legal Policy)

DJGS00289 Counsel to the Deputy Attorney General

DJGS00406 Public Affairs Specialist to the Director, Office of Public Affairs

DJGS00410 Senior Advisor to the Assistant Attorney General, Office of Justice Programs

DJGS00413 Executive Assistant to the United States Attorney

DJGS00462 Counsel to the Assistant Attorney General

DJGS00463 Counselor to the Assistant Attorney General (Legal Policy)

DJGS00468 Press Assistant to the Director, Office of Public Affairs

DJGS00469 Media Affairs Specialist to the Director, Office of Public Affairs

DJGS00470 Confidential Assistant to the Attorney General

DJGS00476 Counsel to the Deputy Attorney General

DJGS00478 Counsel to the Attorney General

DJGS00480 Confidential Assistant to the Assistant Attorney General

DJGS00481 Confidential Assistant to the Assistant Attorney General (Criminal Division)

DJGS00482 Senior Advisor to the Director

DJGS00485 Counsel to the Counselor to the Attorney General for Executive Branch Relations

DJGS00486 Counsel to the Attorney General

DJGS00488 Public Affairs Specialist to the Director, Office of Public Affairs

DJGS00489 Senior Counsel to the Deputy Attorney General

DJGS00492 Counsel to the Deputy Assistant Attorney General

DJGS00493 Special Assistant to the Director

DJGS00494 Counsel to the Assistant Attorney General

DJGS00497 Special Assistant to the Director, Bureau of Justice Assistance

DJGS00498 Confidential Assistant to the Assistant Attorney General

DJGS00501 Speechwriter to the Director, Office of Public Affairs

DJGS00502 Special Assistant to the Director of the Violence Against Women Office

DJGS00503 Director of Scheduling to the Attorney General

DJGS00504 Director of Advance to the Attorney General

DJGS00506 New Media Specialist to the Director, Office of Public Affairs

DJGS00508 Confidential Assistant to the Director of the Violence Against Women Office

DJGS00512 Counsel to the Assistant Attorney General (Civil Division)

DJGS00515 Counselor to the Assistant Attorney General, Office of Justice Programs

DJGS00516 Counsel to the Assistant Attorney General (Civil Division)

DJGS00518 Counsel to the Assistant Attorney General (Civil Division)

DJGS00520 Attorney Advisor to the Assistant Attorney General for Legislative Affairs

DJGS00521 Associate Director to the Director

DJGS00538 Counsel to the Administrator, Office of Juvenile Justice and Delinquency Prevention

DJGS60173 Secretary (Office Automation) to the United States Attorney, Oklahoma, Northern District

DJGS60418 Secretary (Office Automation) to the United States Attorney, Nebraska

DJGS60427 Secretary (Office Automation) to the United States Attorney, New Hampshire

DJGS60436 Secretary (Office Automation) to the United States Attorney, Alabama, Southern District

DJGS60437 Secretary (Office Automation) to the United States Attorney, Delaware

Department of Homeland Security

DMGS00051 Senior Business Liaison to the Assistant Secretary for Private Sector

DMGS00395 Senior Advisor to the Chief Medical Officer to the Assistant Secretary for Health Affairs

DMGS00396 Press Secretary to the Assistant Secretary for Public Affairs

DMGS00413 Legislative Policy Advisor to the Assistant Secretary for Policy

DMGS00437 Counselor to the Director, United States Citizenship and Immigration Services

DMGS00449 Director of Legislative Affairs to the Administrator for the Federal Emergency Management Agency

DMGS00507 Special Assistant to the Assistant Secretary for Policy

DMGS00541 Director/Executive Secretariat, Private Sector Advisory Committee to the Executive Director, Homeland Security Advisory Committees

DMGS00544 Advance Representative to the Director of Scheduling and Advance

DMGS00552 Confidential Legal Assistant to the General Counsel

DMGS00563 Assistant Press Secretary to the Deputy Assistant Secretary for Media Relations

DMGS00577 Deputy Director to the Director of the Center for Faith Based and Community Initiatives

DMGS00580 Associate Director of Strategic Communications to the Deputy Assistant Secretary for Public Affairs

DMGS00591 Senior Liaison Officer to the Executive Director for Operations and Administration

DMGS00600 Confidential Assistant to the Under Secretary for Protocol and Advance Briefings for Science and Technology

DMGS00610 Public Affairs and Press Assistant to the Assistant Secretary for Public Affairs

DMGS00613 Speechwriter to the Director of Speechwriting

DMGS00627 Counselor to the Director, Office of Counter Narcotics Enforcement

DMGS00629 Confidential Assistant to the General Counsel

DMGS00641 Policy Advisor to the Chief Medical Officer to the Assistant Secretary for Health Affairs

DMGS00642 Special Assistant to the Assistant Commissioner for Congressional Affairs for Customs and Border Protection

DMGS00649 Deputy White House Liaison to the White House Liaison

DMGS00651 Press Assistant to the Press Secretary

DMGS00656 Director of Speechwriting to the Assistant Secretary for Public Affairs

DMGS00662 Confidential Assistant to the Assistant Secretary, Immigration and Customs Enforcement

DMGS00664 Advance Representative to the Director of Scheduling and Advance

DMGS00669 Director of Legislative Affairs for Intelligence and Operations to the Assistant Secretary for Legislative Affairs

DMGS00671 Coordinator for State and Local Affairs to the Assistant Secretary for Intergovernmental Programs

DMGS00683 Deputy Director of Scheduling for Travel to the Director of Scheduling and Advance

DMGS00687 Director of Faith Based and Community Initiatives to the Administrator for the Federal Emergency Management Agency

DMGS00688 Special Advisor to the Assistant Secretary for Legislative Affairs

DMGS00689 Advance Representative to the Director of Scheduling and Advance

DMGS00693 Special Assistant to the Under Secretary for Intelligence and Analysis

DMGS00697 Special Assistant to the Assistant Secretary for Policy

DMGS00717 Business Liaison to the Assistant Secretary for Private Sector

DMGS00720 Confidential Assistant to the Chief of Staff to the Secretary (Policy)

DMGS00724 Executive Director, Homeland Security Advisory Committees to the Assistant Secretary for Policy

DMGS00729 Special Assistant to the Chief Privacy Officer

DMGS00738 Deputy Director of Scheduling and Protocol Coordination to the Director of Scheduling and Advance

DMGS00742 Deputy Secretary Briefing Book Coordinator to the Executive Director for Operations and Administration

DMGS00745 Confidential Assistant to the Deputy Assistant Secretary for Public Affairs

DMGS00749 Confidential Assistant to the Counselor

DMGS00754 Governor and Homeland Security Advisors Coordinator to the Assistant Secretary for Intergovernmental Programs

DMGS00760 Director of Intergovernmental Affairs to the Director of External Affairs and Communications

DMGS00761 Associate Director for Public Liaison to the Coordinator of the Recovery and Rebuilding of the Gulf Coast

DMGS00765 Special Assistant to the Chief of Staff

DMGS00766 Business Liaison to the Assistant Secretary for the Private Sector

DMGS00768 New Media Specialist to the Assistant Secretary for Public Affairs

DMGS00769 Confidential Assistant to the White House Liaison

DMGS00770 Confidential Assistant to the Secretary of the Department of Homeland Security

DMGS00772 Assistant Director of Legislative Affairs to the Assistant Secretary for Legislative Affairs

DMGS00773 Confidential Assistant to the Assistant Secretary for Legislative Affairs

DMGS00775 Special Assistant to the Director, United States Citizenship and Immigration Services

DMGS00776 Confidential Assistant to the Assistant Secretary for Policy

DMGS00777 Director of Strategy and Planning to the Assistant Secretary for Legislative Affairs

DMGS00778 Correspondence Liaison Officer to the Executive Director for Operations and Administration

DMGS00779 Confidential Assistant to the Assistant Secretary for Policy Development

DMGS00780 Advance Representative to the Director of Scheduling and Advance

DMGS00781 Special Assistant to the Under Secretary for Science and Technology

DMGS00782 Special Assistant to the Deputy Assistant Secretary for International Affairs

DMGS00784 Correspondence Liaison Officer to the Executive Director for Operations and Administration

DMGS00786 Legislative Assistant to the Assistant Secretary for Legislative Affairs

DMGS00787 Director for Local Affairs to the Assistant Secretary for Intergovernmental Programs

DMGS00788 Counselor to the Principal Deputy General Counsel

DMGS00789 Counselor to the Associate General Counsel for General Law

DMGS00792 Confidential Assistant to the Deputy Chief of Staff (Policy)

DMGS00793 Press Secretary to the Director of External Affairs and Communications

DMGS00794 Assistant for Special Projects to the Chief of Staff

DMGS00795 Advisor to the Director for Policy and Planning, Customs and Border Protection

DMGS00797 Special Assistant to the Assistant Secretary, Immigration and Customs Enforcement

DMGS00800 Deputy Chief of Staff (Policy) to the Secretary (Policy)

DMGS00801 Deputy Assistant Secretary for International Policy to the Assistant Secretary for Policy

DMGS00802 Special Assistant to the Assistant Secretary for Policy

DMGS00803 Senior Advisor for Media and Communications to the Assistant Commissioner of Public Affairs, Customs and Border Protection

DMGS00804 Confidential Assistant to the Assistant Secretary for Intergovernmental Programs

DMGS00805 Special Assistant to the Director, Office of Counter Narcotics Enforcement

DMGS00806 Confidential Assistant to the General Counsel

DMGS00808 Special Assistant to the Assistant Secretary for Policy

DMGS00810 Special Assistant to the Executive Director, Homeland Security Advisory Committees

DMGS00812 Press Assistant to the Assistant Secretary for Public Affairs

DMGS00813 Confidential Assistant to the Deputy Chief of Staff (Policy)

DMGS00814 Confidential Assistant to the Assistant Secretary, Immigration and Customs Enforcement

DMGS00815 Scheduling and Advance Assistant to the Deputy Director of Scheduling and Protocol Coordination

DMGS00818 Special Assistant to the Chief of Staff

DMGS00819 Deputy to the Federal Coordinator for Gulf Coast Rebuilding

DMGS00820 Advisor to the Deputy Secretary of the Department of Homeland Security

DMGS00821 Traveling Press Secretary to the Director of External Affairs and Communications

DMGS00822 Counselor to the Administrator for the Federal Emergency Management Agency

DMGS00826 Special Assistant to the Senior Advisor

DMGS00827 Special Assistant to the Senior Advisor

DMGS00831 Senior Advisor, Disability Issues, to the Director of External Affairs and Communications

DMGS00832 Confidential Assistant to the Assistant Secretary for International Affairs

Department of the Interior

DIGS01133 Special Assistant to the Chief of Staff

DIGS01134 Deputy Director to the Director, Office of Communications

DIGS01135 Special Assistant to the Secretary

DIGS01136 Special Assistant to the White House Liaison

DIGS01137 Special Assistant to the Deputy Chief of Staff

DIGS01138 Special Assistant to the Secretary

DIGS01139 Special Assistant to the Secretary

DIGS01141 Associate Director, External and Intergovernmental Affairs to the Secretary

DIGS01142 Special Assistant to the Director, External and Intergovernmental Affairs

DIGS01144 Senior Advisor for Alaskan Affairs to the Secretary

DIGS01146 Deputy Director, Congressional and Legislative Affairs

DIGS01147 Press Secretary to the Director, Office of Communications

DIGS01148 Special Assistant to the Assistant Secretary of Indian Affairs

DIGS01149 Director of Advance to the Secretary

DIGS01150 Special Assistant to the Deputy Secretary of the Interior

DIGS01152 Special Assistant to the Deputy Secretary of the Interior

DIGS01153 Deputy Director, Congressional and Legislative Affairs to the Director

DIGS01154 Director of New Media to the Director, Congressional and Legislative Affairs

DIGS01155 Associate Director, to the Director, External and Intergovernmental Affairs

DIGS01156 Special Assistant to the Secretary

DIGS01157 Special Assistant to the Secretary

DIGS01158 Special Assistant to the Secretary

DIGS01159 Deputy Alaska Director to the Senior Advisor for Alaskan Affairs

DIGS01160 Special Assistant to the Director, External and Intergovernmental Affairs

DIGS01161 Special Assistant to the Chief of Staff

DIGS01162 Chief of Staff to the Assistant Secretary for Fish and Wildlife and Parks

DIGS10118 Special Assistant to the Secretary

Department of Agriculture

DAGS00101 Confidential Assistant to the Chief of Staff

DAGS00102 Confidential Assistant to the Deputy Under Secretary for Marketing and Regulatory Programs

DAGS00109 Special Assistant to the Administrator, Food and Nutrition Service

DAGS00110 Deputy Director of Scheduling and Advance to the Director of Communications

DAGS00111 Special Assistant to the Administrator, Food and Nutrition Service

DAGS00114 Confidential Assistant to the Secretary

DAGS00116 Confidential Assistant to the Deputy Under Secretary for Marketing and Regulatory Programs

DAGS00117 Special Assistant to the Deputy Under Secretary for Food Safety

DAGS00118 Special Assistant to the Administrator, Rural Housing Service

DAGS00119 Senior Advisor for Labor Relations to the Assistant Secretary for Congressional Relations

DAGS00120 Deputy Press Secretary to the Director of Communications

DAGS00121 Confidential Assistant to the Deputy Under Secretary for Rural Development

DAGS00122 Confidential Assistant to the Under Secretary for Farm and Foreign Agricultural Services

DAGS00123 Confidential Assistant to the Chief, Natural Resources Conservation Service

DAGS00124 Chief of Staff to the Administrator, Foreign Agricultural Service

DAGS00125 Senior Advisor to the Administrator for Risk Management

DAGS00126 Senior Policy Analyst to the Administrator, Farm Service Agency

DAGS00127 Senior Advisor to the Deputy Secretary

DAGS00128 Confidential Assistant to the Administrator, Rural Housing Service

DAGS00130 Special Assistant to the Deputy Assistant Secretary for Civil Rights

DAGS00132 Confidential Assistant to the Under Secretary for Natural Resources and Environment

DAGS00133 Staff Assistant to the Administrator, Farm Service Agency

DAGS00134 Chief of Staff to the Administrator, Rural Housing Service

DAGS00135 Special Assistant to the Administrator, Rural Housing Service

DAGS00137 Confidential Assistant to the Administrator, Rural Housing Service

DAGS00138 Confidential Assistant to the Administrator, Rural Housing Service

DAGS00140 Director of the Office of Faith Based and Neighborhood Outreach

DAGS00141 Confidential Assistant to the Chief Financial Officer

DAGS00142 Senior Advisor to the Under Secretary for Food Safety

DAGS00143 Special Assistant to the Chief, Natural Resources Conservation Service

DAGS00144 Special Assistant to the Chief, Natural Resources Conservation Service

DAGS00145 Confidential Assistant to the Director of Communications

DAGS00146 Chief of Staff to the Administrator

DAGS00147 Special Assistant to the Administrator

DAGS00149 Staff Assistant to the Administrator for Risk Management

DAGS00150 Senior Advisor to the Administrator, Foreign Agricultural Service

DAGS00153 Confidential Assistant to the Assistant Secretary for Administration

DAGS00155 Director, Intergovernmental Affairs to the Assistant Secretary for Congressional Relations

DAGS00156 Deputy Director, Intergovernmental Affairs to the Assistant Secretary for Congressional Relations

DAGS01002 Confidential Assistant to the Deputy Under Secretary for Rural Development

DAGS01004 Confidential Assistant to the Deputy Under Secretary for Rural Development

DAGS01006 Confidential Assistant to the Deputy Under Secretary for Rural Development

DAGS01007 Confidential Assistant to the Chief of Staff

DAGS01010 Special Assistant to the Under Secretary for Marketing and Regulatory Programs for Specialty Crops

DAGS01013 Special Assistant to the Assistant Secretary for Civil Rights

DAGS01014 Director of Advance to the Director of Communications

DAGS01017 Special Assistant to the Deputy Under Secretary for Natural Resources and Environment

DAGS01018 Director of Speechwriting/Research to the Director of Communications

DAGS01019 Director, Economic and Community Development to the Deputy Under Secretary for Rural Development

DAGS01021 Confidential Assistant to the Deputy Under Secretary for Rural Development

DAGS01022 Confidential Assistant to the Deputy Under Secretary for Rural Development

DAGS01023 Advance Lead to the Director of Communications

DAGS01024 Director of Scheduling and Advance to the Director of Communications

Department of Commerce

DCGS00030 Special Assistant to the National Director, Minority Business Development Agency

DCGS00100 Special Assistant to the Chief of Staff

DCGS00181 Special Advisor to the Deputy Assistant Secretary for Communications and Information

DCGS00189 Special Advisor to the Director, Office of Policy and Strategic Planning

DCGS00199 Confidential Assistant to the Assistant Secretary for Legislative and Intergovernmental Affairs

DCGS00200 Legislative/Intergovernmental Specialist to the Assistant Secretary for Legislative and Intergovernmental Affairs

DCGS00202 Legislative Specialist to the Director for Legislative Affairs

DCGS00205 Special Assistant to the Administrator to the Under Secretary for Oceans and Atmosphere (Administrator National Oceanic and Atmospheric Administration)

DCGS00237 Special Assistant to the Under Secretary for International Trade

DCGS00268 Special Assistant to the Chief of Staff

DCGS00279 Chief of Staff for National Telecommunications and Information Administration to the Assistant Secretary for Communications and Information

DCGS00298 Special Advisor to the Assistant Secretary for Communications and Information

DCGS00351 Confidential Assistant to the Deputy General Counsel

DCGS00368 Legislative Affairs Specialist to the Director, Office of Legislative Affairs

DCGS00380 Confidential Assistant to the Chief of Staff for International Trade Administration

DCGS00382 Confidential Assistant to the Director, Office of Policy and Strategic Planning

DCGS00389 Senior Advisor to the Assistant Secretary for Import Administration

DCGS00395 Confidential Assistant to the Director of Global Trade Programs

DCGS00460 Director of Intergovernmental Affairs for the Assistant Secretary for Legislative and Intergovernmental Affairs

DCGS00465 Confidential Assistant to the Director, Office of the White House Liaison

DCGS00470 Confidential Assistant to the Director, Executive Secretariat

DCGS00473 Special Assistant to the General Counsel

DCGS00476 Deputy Director to the Director, Executive Secretariat

DCGS00484 Director, Office of Faith Based and Neighborhood Partnerships for the Secretary and Deputy Chief of Staff

DCGS00485 Deputy Director for Faith Based and Neighborhood Partnerships for the Secretary and Deputy Chief of Staff

DCGS00492 Advance Specialist to the Director of Advance

DCGS00494 Press Secretary to the Director of Public Affairs

DCGS00540 Chief Protocol Officer to the Director of Scheduling and Advance

DCGS00564 Confidential Assistant to the Secretary

DCGS00569 Confidential Assistant to the Director of Public Affairs

DCGS00574 Confidential Assistant to the Director, Office of Business Liaison

DCGS00576 Director of Advance to the Director for Scheduling and Advance

DCGS00579 Director for Legislative Affairs to the Assistant Secretary for Legislative and Intergovernmental Affairs

DCGS00590 Confidential Assistant to the Director, Executive Secretariat

DCGS00593 Senior Advisor to the Chief of Staff

DCGS00599 Confidential Assistant to the Director of Communications

DCGS00608 Confidential Assistant to the Deputy Secretary

DCGS00620 Director of Legislative Affairs, International Trade Administration for the Under Secretary for International Trade

DCGS00628 Confidential Assistant to the Director of Scheduling and Advance

DCGS00629 Deputy Director for Public Affairs to the Director of Public Affairs

DCGS00639 New Media Director to the Director of Public Affairs

DCGS00652 Confidential Assistant to the Director of Public Affairs

DCGS00667 Senior Policy Advisor to the Under Secretary for International Trade

DCGS00684 Director of Speechwriting to the Director for Public Affairs

DCGS00686 Director of Scheduling and Advance for the Chief of Staff

DCGS00689 Special Assistant to the Director, Executive Secretariat

DCGS60001 Deputy Director, Office of Business Liaison to the Director, Office of Business Liaison

DCGS60532 Associate General Counsel to the General Counsel

DCGS60544 Chief of Staff for International Trade Administration to the Under Secretary for International Trade

Department of Labor

DLGS00108 Special Assistant to the Director of Scheduling and Advance

DLGS00166 Staff Assistant to the Chief Economist

DLGS09039 Speech Writer to the Assistant Secretary for Public Affairs

DLGS60017 Senior Legislative Officer to the Assistant Secretary for Congressional and Intergovernmental Affairs

DLGS60025 Senior Legislative Officer to the Assistant Secretary for Congressional and Intergovernmental Affairs

DLGS60041 Staff Assistant to the Deputy Chief of Staff

DLGS60042 Special Assistant to the Assistant Secretary for Public Affairs

DLGS60066 Special Assistant to the Assistant Secretary for Policy

DLGS60089 Special Assistant to the Secretary of Labor

DLGS60093 Special Assistant to the Director of Scheduling and Advance

DLGS60118 Staff Assistant to the Secretary of Labor

DLGS60120 Senior Legislative Officer to the Assistant Secretary for Congressional and Intergovernmental Affairs

DLGS60135 Special Assistant to the Director of Planning, Scheduling, and Advance

DLGS60160 Senior Speechwriter to the Assistant Secretary for Public Affairs

DLGS60170 Special Assistant to the Secretary of Labor

DLGS60174 Special Assistant to the Director of Planning, Scheduling, and Advance

DLGS60175 Senior Advisor to the Deputy Assistant Secretary for Policy

DLGS60180 Chief of Staff to the Assistant Secretary for Congressional and Intergovernmental Affairs

DLGS60194 Director of Scheduling and Advance to the Secretary of Labor

DLGS60199 Special Assistant to the Assistant Secretary for Public Affairs

DLGS60231 Office Clerk to the Deputy Secretary of Labor

DLGS60267 Staff Assistant to the Director of Planning, Scheduling, and Advance

DLGS60273 Special Assistant to the Assistant Secretary for Administration and Management

Department of Health and Human Services

DHGS00492 Deputy White House Liaison for Political Personnel, Boards and Commissions to the White House Liaison for Political Personnel, Boards and Commissions

DHGS60031 Confidential Assistant to the Assistant Secretary for Public Affairs

DHGS60035 Confidential Assistant to the Administrator, Centers for Medicare and Medicaid Services

DHGS60063 Confidential Assistant to the Director of Public Affairs

DHGS60070 Special Assistant to the Assistant Secretary for Planning and Evaluation

DHGS60111 Confidential Assistant to the Assistant Secretary for Public Affairs

DHGS60345 Director of Public Affairs to the Assistant Secretary for Children and Families

DHGS60399 Special Assistant to the Assistant Secretary for Children and Families

DHGS60436 Associate Commissioner to the Assistant Secretary for Children and Families

DHGS60661 Special Assistant to the Deputy Secretary, Health and Human Services

DHGS60711 Special Assistant to the Deputy Assistant Secretary for Public Affairs (Policy and Strategy)

DHGS60714 Special Assistant to the Deputy Secretary, Health and Human Services

Department of Education

DBGS00143 Special Assistant for College Access to the Deputy Chief of Staff for Strategy

DBGS00184 Confidential Assistant to the Deputy Assistant Secretary

DBGS00202 Deputy Assistant Secretary for Enforcement to the Assistant Secretary for Civil Rights

DBGS00219 Special Assistant to the Deputy Under Secretary

DBGS00226 Confidential Assistant to the Director, Faith-Based and Community Initiatives Center

DBGS00227 Confidential Assistant to the Director, White House Liaison

DBGS00229 Confidential Assistant to the Chief of Staff

DBGS00230 Confidential Assistant to the Chief of Staff

DBGS00250 Confidential Assistant to the Deputy Chief of Staff for Strategy

DBGS00262 Confidential Assistant to the Deputy Chief of Staff for Strategy

DBGS00276 Confidential Assistant to the Deputy Chief of Staff for Strategy

DBGS00283 Special Assistant to the Press Secretary

DBGS00284 Confidential Assistant (Protocol) to the Deputy Chief of Staff for Operations

DBGS00288 Confidential Assistant to the Assistant Secretary for Legislation and Congressional Affairs

DBGS00303 Director, White House Initiative on Educational Excellence for Hispanic Americans for the Deputy Chief of Staff for Strategy

DBGS00306 Deputy Assistant Secretary to the Assistant Secretary for Legislation and Congressional Affairs

DBGS00344 Special Assistant to the Assistant Secretary for Legislation and Congressional Affairs

DBGS00359 Special Assistant to the Assistant Secretary for Civil Rights

DBGS00376 Director, Scheduling and Advance Staff to the Deputy Chief of Staff for Strategy

DBGS00394 Confidential Assistant to the Assistant Secretary for Elementary and Secondary Education

DBGS00396 Special Assistant to the Deputy Chief of Staff for Strategy

DBGS00400 Deputy Assistant Secretary to the Assistant Secretary for Planning, Evaluation, and Policy Development

DBGS00404 Special Assistant to the General Counsel

DBGS00409 Deputy Assistant Secretary to the Assistant Secretary for Vocational and Adult Education

DBGS00415 Confidential Assistant to the Assistant Secretary for Planning, Evaluation, and Policy Development

DBGS00431 Press Secretary to the Assistant Secretary, Office of Communications and Outreach

DBGS00433 Deputy Assistant Secretary for External Affairs and Outreach

DBGS00442 Confidential Assistant to the Assistant Secretary for Civil Rights

DBGS00460 Deputy Assistant Secretary for Communication Development to the Assistant Secretary, Office of Communications and Outreach

DBGS00462 Special Assistant to the Assistant Secretary, Office of Communications and Outreach

DBGS00467 Director, Faith-Based and Community Initiatives Center for the Chief of Staff

DBGS00499 Director, Intergovernmental Affairs for the Assistant Secretary, Office of Communications and Outreach

DBGS00507 Confidential Assistant to the General Counsel

DBGS00511 Executive Assistant to the Deputy Chief of Staff for Strategy

DBGS00523 Director, White House Liaison to the Deputy Chief of Staff for Strategy

DBGS00533 Special Assistant to the Director, White House Liaison

DBGS00537 Special Assistant to the Deputy Chief of Staff for Strategy

DBGS00543 Confidential Assistant to the Assistant Secretary for Legislation and Congressional Affairs

DBGS00549 Special Assistant to the Executive Administrator

DBGS00551 Confidential Assistant to the Assistant Secretary for Planning, Evaluation, and Policy Development

DBGS00554 Confidential Assistant to the Director, Scheduling and Advance Staff

DBGS00560 Special Assistant to the Assistant Secretary for Planning, Evaluation, and Policy Development

DBGS00569 Special Assistant to the Director, Academic Improvement and Teacher Quality Programs

DBGS00570 Confidential Assistant to the Director, Intergovernmental Affairs

DBGS00576 Special Assistant to the Deputy Chief of Staff for Strategy

DBGS00586 Special Assistant to the Deputy Chief of Staff for Strategy

DBGS00589 Confidential Assistant to the Assistant Secretary, Office of Communications and Outreach

DBGS00612 Special Assistant to the General Counsel

DBGS00626 Special Assistant to the Chief of Staff

DBGS00649 Confidential Assistant to the Director, Scheduling and Advance Staff

DBGS00652 Special Assistant to the Director, Executive Management Staff

DBGS00655 Special Assistant to the Director, Scheduling and Advance Staff

DBGS00661 Confidential Assistant to the Director, White House Liaison

DBGS00663 Special Assistant to the Assistant Secretary, Office of Communications and Outreach

DBGS00672 Confidential Assistant to the Deputy Chief of Staff for Strategy

DBGS00673 Confidential Assistant to the Assistant Deputy Secretary for Innovation and Improvement

DBGS00675 Confidential Assistant to the General Counsel

DBGS00676 Confidential Assistant to the Executive Administrator

DBGS00678 Special Assistant to the Assistant Secretary for Planning, Evaluation, and Policy Development

DBGS00900 Special Assistant to the Director, Academic Improvement and Teacher Quality Programs

DBGS60164 Confidential Assistant to the Deputy Under Secretary

Environmental Protection Agency

EPGS03606 Press Secretary to the Associate Administrator for Public Affairs

EPGS05006 Speech Writer to the Associate Administrator for Public Affairs

EPGS05017 Deputy Associate Administrator for Congressional Affairs to the Associate Administrator for Congressional and Intergovernmental Relations

EPGS06028 Deputy Associate Administrator for Intergovernmental Relations to the Associate Administrator for Congressional and Intergovernmental Relations

EPGS07013 Deputy to the Director of Scheduling

EPGS07020 Confidential Assistant to the Deputy Administrator

EPGS07023 Advance Specialist to the Deputy Chief of Staff (Operations)

EPGS07029 Director of Advance to the Deputy Chief of Staff (Operations)

EPGS08002 Deputy Associate Administrator to the Associate Administrator for Public Affairs

EPGS08007 Director of Operations to the Deputy Chief of Staff (Operations)

EPGS08008 Program Manager (Scheduling) to the Deputy Chief of Staff (Operations)

EPGS09005 Special Assistant to the Associate Administrator for Policy, Economics and Innovation

EPGS09006 Deputy Press Secretary to the Associate Administrator for Public Affairs

EPGS09007 Confidential Assistant to the Administrator

EPGS09008 White House Liaison to the Administrator

EPGS09009 Deputy Press Secretary to the Associate Administrator for Public Affairs

EPGS60076 Senior Counsel to the Associate Administrator for Congressional and Intergovernmental Relations

EPGS60799 Special Assistant to the Senior Climate Policy Counsel to the Administrator

Council of Economic Advisers

CEGS60001 Confidential Assistant to the Chairman, Council of Economic Advisers

CEGS60004 Confidential Assistant to the Chairman, Council of Economic Advisers

CEGS60005 Administrative Operations Assistant to the Member (Council for Economic Advisers)

United States Tax Court

JCGS60040 00301 Chambers Administrator to the Chief Judge

JCGS60041 Chambers Administrator to the Chief Judge

JCGS60042 Chambers Administrator to the Chief Judge

JCGS60043 Chambers Administrator to the Chief Judge

JCGS60044 Chambers Administrator to the Chief Judge

JCGS60045 Chambers Administrator to the Chief Judge

JCGS60047 Chambers Administrator to the Chief Judge

JCGS60048 Chambers Administrator to the Chief Judge

JCGS60049 Chambers Administrator to the Chief Judge

JCGS60050 Chambers Administrator to the Chief Judge

JCGS60051 Chambers Administrator to the Chief Judge

JCGS60052 Chambers Administrator to the Chief Judge

JCGS60053 Chambers Administrator to the Chief Judge

JCGS60054 Chambers Administrator to the Chief Judge

JCGS60055 Chambers Administrator to the Chief Judge

JCGS60056 Chambers Administrator to the Chief Judge

JCGS60057 Chambers Administrator to the Chief Judge

JCGS60058 Chambers Administrator to the Chief Judge

JCGS60059 Chambers Administrator to the Chief Judge

JCGS60060 Chambers Administrator to the Chief Judge

JCGS60061 Chambers Administrator to the Chief Judge

JCGS60062 Chambers Administrator to the Chief Judge

JCGS60063 Chambers Administrator to the Chief Judge

JCGS60064 Chambers Administrator to the Chief Judge

JCGS60065 Chambers Administrator to the Chief Judge

JCGS60066 Trial Clerk to the Chief Judge

JCGS60067 Trial Clerk to the Chief Judge

JCGS60069 Trial Clerk to the Chief Judge

JCGS60071 Trial Clerk to the Chief Judge

JCGS60073 Trial Clerk to the Chief Judge

JCGS60075 Trial Clerk to the Chief Judge

JCGS60076 Trial Clerk to the Chief Judge

JCGS60078 Trial Clerk to the Chief Judge

JCGS60079 Trial Clerk to the Chief Judge

JCGS60080 Chambers Administrator to the Chief Judge

JCGS60081 Chambers Administrator to the Chief Judge

JCGS60083 Chambers Administrator to the Chief Judge

JCGS60084 Trial Clerk to the Chief Judge

JCGS60085 Trial Clerk to the Chief Judge

JCGS60086 Trial Clerk to the Chief Judge

Department of Veterans Affairs

DVGS00082 Special Assistant to the Assistant Secretary for Public and Intergovernmental Affairs

DVGS60001 Special Assistant to the Deputy Secretary of Veterans Affairs

DVGS60013 Special Assistant to the Secretary of Veterans Affairs

DVGS60017 Special Assistant to the Assistant Secretary for Public and Intergovernmental Affairs

DVGS60038 Special Assistant to the Deputy Secretary of Veterans Affairs

DVGS60048 Confidential Assistant to the Secretary of Veterans Affairs

DVGS60080 Special Assistant to the Secretary of Veterans Affairs

Broadcasting Board of Governors

IBGS00013 Chief of Staff to the Director, Office of Cuba Broadcasting

Securities and Exchange Commission

SEOT11011 Director of Communications to the Chairman

SEOT11012 Chief of Staff to the Chairman

SEOT60002 Confidential Assistant to a Commissioner

SEOT60007 Confidential Assistant to a Commissioner

SEOT60008 Secretary (Office Automation) to the Chief Accountant

SEOT60016 Secretary to the Director, Division of Enforcement

SEOT60052 Chief of Staff to the Chairman

SEOT60054 Secretary to the Director, Division of Market Regulation

SEOT60062 Confidential Assistant to a Commissioner

SEOT60090 Confidential Assistant to the Chairman

SEOT60103 Legislative and Intergovernmental Affairs Specialist to the Director of Legislative Affairs

SEOT60999 Confidential Assistant to the General Counsel

SEOT65001 Executive Staff Assistant to the Chief of Staff

SEOT90006 Confidential Assistant to a Commissioner

SEOT90007 Confidential Assistant to the Chairman

Department of Energy

DEGS00531 Senior Advisor to the Chief Operating Officer for Energy Efficiency and Renewable Energy

DEGS00548 Staff Assistant to the General Counsel

DEGS00556 Congressional Affairs Officer to the Director, Congressional Affairs

DEGS00570 Senior Policy Advisor to the Assistant Secretary of Energy (Environmental Management)

DEGS00593 Congressional Affairs Specialist to the Director, Congressional Affairs

DEGS00616 Special Assistant to the Assistant Secretary for Policy and International Affairs

DEGS00617 Special Assistant to the Director, Office of Scheduling and Advance

DEGS00628 Assistant Press Secretary to the Director, Public Affairs

DEGS00662 Deputy Assistant Secretary for Environmental Management and National Security to the Assistant Secretary for Congressional and Intergovernmental Affairs

DEGS00669 Senior Policy Advisor to the Under Secretary for Science

DEGS00702 Advisor to the Secretary, Department of Energy

DEGS00703 Special Assistant to the Secretary, Department of Energy

DEGS00704 Special Assistant to the Secretary, Department of Energy

DEGS00709 Special Assistant and Scheduler to the Secretary to the Director, Office of Public Affairs

DEGS00710 Deputy Press Secretary to the Director, Office of Public Affairs

DEGS00711 Deputy Director to the Director, Office of Public Affairs

DEGS00712 Press Secretary to the Director, Office of Public Affairs

DEGS00714 Special Assistant to the White House Liaison

DEGS00715 White House Liaison to the Secretary, Department of Energy

DEGS00716 Deputy Chief of Staff

DEGS00718 Economic Recovery Advisor to the Assistant Secretary (Electricity Delivery and Energy Reliability)

DEGS00719 Press Assistant to the Director, Office of Public Affairs

DEGS00720 Lead Advance Representative to the Secretary, Department of Energy

DEGS00721 Chief Speechwriter to the Director, Office of Public Affairs

DEGS00722 Special Assistant to the Secretary, Department of Energy

DEGS00724 Director, Office of Scheduling and Advance to the Secretary, Department of Energy

DEGS00725 Special Assistant to the Chief of Staff

DEGS00726 New Media Specialist to the Director, Office of Public Affairs

DEGS00727 Special Assistant to the Deputy Chief of Staff

DEGS00728 Special Assistant to the Chief of Staff

DEGS00729 Advisor for Policy and Communications to the Director, Office of Public Affairs

DEGS00730 Director, Public Affairs to the Under Secretary for Nuclear Security/Administrator for Nuclear Security

DEGS00731 Special Assistant to the Chief of Staff

DEGS00732 Deputy Scheduler to the Director, Office of Scheduling and Advance

DEGS00733 Trip Coordinator to the Director, Office of Scheduling and Advance

DEGS00734 Special Assistant to the Secretary to the Chief of Staff

DEGS00735 Special Assistant to the Chief of Staff

DEGS00739 Deputy Assistant Secretary for Intergovernmental and External Affairs to the Chief of Staff

DEGS00742 Senior Policy Advisor to the Chief of Staff

DEGS00743 Small Business Loan Guarantee Program Advisor to the Chief of Staff

DEGS00744 Deputy Director of Public Affairs to the Director, Public Affairs

DEGS00745 Special Assistant to the Chief of Staff

DEGS00749 Special Assistant to the Chief of Staff

DEGS00750 Special Assistant to the Chief of Staff

DEGS00751 New Media Specialist to the Chief of Staff

DEGS00752 Special Assistant to the Deputy Secretary of Energy

DEGS00754 Public Affairs Coordinator to the Director, Public Affairs

DEGS00756 Senior Counsel to the General Counsel

DEGS00757 Senior Advisor to the Under Secretary

DEGS00758 Special Assistant to the General Counsel

DEGS00759 Special Assistant to the Assistant Secretary for Policy and International Affairs

Federal Energy Regulatory Commission

DRGS60003 Confidential Assistant to the Member, Federal Energy Regulatory Commission

DRGS60007 Confidential Assistant to the Member, Federal Energy Regulatory Commission

DRGS60009 Confidential Assistant to the Chair, Federal Energy Regulatory Commission

Small Business Administration

SBGS00557 Deputy Associate Administrator for Communications and Public Liaison to the Assistant Administrator

SBGS00594 Press Secretary to the Assistant Administrator for Communications and Public Liaison

SBGS00601 Associate Administrator for Field Operations to the Administrator

SBGS00662 Deputy Assistant Administrator to the Assistant Administrator for Congressional and Legislative Affairs

SBGS00667 Speechwriter to the Assistant Administrator for Communications and Public Liaison

SBGS00675 Special Assistant to the Administrator

SBGS00677 Confidential Assistant to the Administrator

SBGS00678 Special Assistant to the Administrator

SBGS00680 Assistant Administrator for Communications and Public Liaison

SBGS00681 Special Assistant to the Associate Administrator for Capital Access

SBGS00682 National Director for Native American Affairs to the National Director for Native American Affairs

SBGS00683 Special Assistant to the Deputy Assistant Administrator for Congressional and Legislative Affairs

SBGS00694 Congressional Legislative Affairs Assistant to the Deputy Assistant Administrator for Congressional and Legislative Affairs

SBGS60173 Regional Administrator, Region VI, Dallas, Texas to the District Director

SBGS60174 Regional Administrator to the Associate Administrator for Field Operations

SBGS60175 Regional Administrator to the District Director

SBGS60188 Regional Administrator, Region IX, San Francisco to the Administrator

SBGS60189 Regional Administrator, Region 10, Seattle Washington to the Associate Administrator for the Office of Field Operations

Federal Deposit Insurance Corporation

FDOT00010 Chief of Staff to the Chairman of the Board of Directors (Director)

FDOT00012 Director for Public Affairs to the Chairman of the Board of Directors (Director)

Federal Trade Commission

FTGS60006 Congressional Liaison Specialist to the Chairman

FTGS60027 Confidential Assistant to the Chairman

General Services Administration

GSGS00090 Special Assistant to the White House Liaison

GSGS00095 Congressional Relations Specialist to the Associate Administrator for Congressional and Intergovernmental Affairs

GSGS00168 Special Assistant to the White House Liaison

GSGS00181 Public Affairs Specialist to the Deputy Associate Administrator for Communications and Marketing

GSGS00182 Special Assistant to the White House Liaison

GSGS00190 Congressional Relations Specialist to the Associate Administrator for Congressional and Intergovernmental Affairs

GSGS60095 White House Liaison to the Administrator

GSGS60103 Special Assistant to the Chief of Staff

GSGS60126 Deputy Associate Administrator for Communications and Marketing to the Associate Administrator for Citizen Services and Communications

United States International Trade Commission

TCGS00007 Staff Assistant (Legal) to a Commissioner

TCGS00010 Staff Assistant (Legal) to a Commissioner

TCGS00012 Staff Assistant (Legal) to a Commissioner

TCGS00013 Staff Assistant (Legal) to the Chairman

TCGS00025 Confidential Assistant to a Commissioner

TCGS00031 Executive Assistant to a Commissioner

TCGS00033 Staff Assistant to a Commissioner

TCGS00037 Staff Assistant (Legal) to the Chairman

TCGS60005 Staff Assistant (Legal) to a Commissioner

TCGS60006 Staff Assistant (Legal) to a Commissioner

TCGS60007 Staff Assistant (Economics) to a Commissioner

TCGS60015 Executive Assistant to the Vice Chairman

TCGS60018 Staff Assistant (Legal) to a Commissioner

TCGS60019 Staff Assistant (Economist) to a Commissioner

TCGS60022 Staff Assistant (Legal) to a Commissioner

TCGS60025 Staff Assistant (Legal) to a Commissioner

TCGS60030 Confidential Assistant to a Commissioner

TCGS60036 Staff Assistant (Economist) to the Chairman

TCGS60100 Staff Assistant (Legal) to a Commissioner

TCGS60101 Executive Assistant to a Commissioner

Export-Import Bank

EBGS04544 Executive Assistant to the Chairman

EBGS45409 Special Assistant to the Chief of Staff

EBSL42019 Senior Vice President for Congressional Affairs to the President and Chairman

Farm Credit Administration

FLOT00027 Director to the Chairman, Farm Credit Administration Board

FLOT00030 Associate Director of Congressional Affairs to the Chairman, Farm Credit Administration Board

FLOT00080 Executive Assistant to the Member, Farm Credit Administration Board

Occupational Safety and Health Review Commission

SHGS00007 Confidential Assistant to the Chairman

SHGS60008 Counsel to the Commission Member

SHGS60009 Confidential Assistant to the Commission Member

Selective Service System.

SSGS03389 Executive Officer/Chief of Staff to the Director Selective Service System

SSGS03464 Management Analyst to the Director Selective Service System

National Aeronautics and Space Administration

NNGS01121 Special Assistant to the Chief of Staff

NNGS01122 Special Assistant to the Chief of Staff

Federal Mine Safety and Health Review Commission

FRGS60024 Confidential Assistant to the Chairman

FRGS90504 Attorney Advisor (General) to a Member

Merit Systems Protection Board

MPGS00003 Confidential Assistant to a Board Member

MPGS60010 Confidential Assistant to the Chairman

MPGS60014 Counsel to the Chairman

Social Security Administration

SZGS00017 Associate Commissioner for External Affairs to the Deputy Commissioner for Communications

SZGS00019 Senior Advisor to the Deputy Commissioner for Legislation and Congressional Affairs

Commission on Civil Rights

CCGS00017 Special Assistant to the Commissioner

CCGS60012 Special Assistant to the Commissioner

CCGS60013 Special Assistant to the Vice Chairman

CCGS60020 Special Assistant to the Chairman

CCGS60029 Special Assistant to the Commissioner

CCGS60031 General Counsel to the Staff Director

National Credit Union Administration

CUOT00026 Staff Assistant to the Vice Chair

CUOT00025 Staff Assistant to a Board Member

CUOT00040 Senior Policy Advisor to the Chairman

CUOT01008 Senior Policy Advisor to a Board Member

CUOT01009 Senior Policy Advisor to a Board Member

CUOT01324 Staff Assistant to the Director of Public and Congressional Affairs

Consumer Product Safety Commission

PSGS00023 Special Assistant (Legal) to the Chairman, Consumer Product Safety Commission

PSGS07318 Special Assistant to a Commissioner

PSGS60001 Special Assistant (Legal) to a Commissioner

PSGS60061 Executive Assistant to a Commissioner

PSGS60062 Special Assistant (Legal) to a Commissioner

PSGS60063 Special Assistant (Legal) to a Commissioner

PSGS72150 Staff Assistant to a Commissioner

Federal Maritime Commission

MCGS60003 Counsel to the Commissioner

MCGS60042 Counsel to a Member

Trade and Development Agency

TDGS00003 Executive Assistant to the Director

TDGS00004 Public Affairs Specialist to the Director

TDGS60002 Congressional Liaison to the Director

Appalachian Regional Commission

APGS00005 Confidential Policy Advisor to the Federal Co-Chairman

Commodity Futures Trading Commission

CTOT00058 Special Assistant to the Commissioner

CTOT00082 Chief of Staff to the Chairperson

CTOT00089 Administrative Assistant to the Commissioner

CTOT00091 Chief Economist to the Chairperson

CTOT00097 Administrative Assistant to the Commissioner

CTOT09768 Director, Office of External Affairs

National Endowment for the Arts

NAGS00063 Deputy Congressional Liaison to the Director, Office of Government Affairs

NAGS00075 Director, Office of Government Affairs to the Chairman National Endowment for the Arts

NAGS60077 Director of Communications to the Chairman National Endowment for the Arts

National Endowment for the Humanities

NHGS60065 Special Assistant to the Chairman

Department of Housing and Urban Development

DUGS00053 Staff Assistant to the Chief of Staff

DUGS06632 General Deputy Assistant Secretary for Public Affairs to the Assistant Secretary for Public Affairs

DUGS60078 Staff Assistant to the Chief of Staff

DUGS60117 Staff Assistant to the Assistant Secretary for Administration/Chief Human Capital Officer

DUGS60121 Media Outreach Specialist to the Assistant Secretary for Public Affairs

DUGS60171 Congressional Relations Specialist to the Chief of Staff

DUGS60173 Staff Assistant to the Secretary, Housing and Urban Development

DUGS60174 Congressional Relations Officer to the Deputy Assistant Secretary for Congressional Relations

DUGS60178 Intergovernmental Relations Specialist to the Assistant Secretary for Congressional and Intergovernmental Relations

DUGS60180 Special Assistant to the Assistant Secretary for Housing, Federal Housing Commissioner

DUGS60182 Special Assistant to the Assistant Secretary for Public and Indian Housing

DUGS60184 Deputy Assistant Secretary for Congressional Relations to the Assistant Secretary for Congressional and Intergovernmental Relations

DUGS60186 Staff Assistant to the Chief of Staff

DUGS60193 Media Specialist to the Chief of Staff

DUGS60194 Staff Assistant to the Assistant Secretary for Public Affairs

DUGS60199 Staff Assistant to the Assistant Secretary for Public Affairs

DUGS60204 General Deputy Assistant Secretary to the Assistant Secretary for Congressional and Intergovernmental Relations

DUGS60211 Advance Coordinator to the Director, Office of Executive Scheduling and Operations

DUGS60240 Speechwriter to the Assistant Secretary for Public Affairs

DUGS60249 Congressional Relations Specialist to the Assistant Secretary for Congressional and Intergovernmental Relations

DUGS60270 White House Liaison Assistant to the Assistant to the Secretary and White House Liaison

DUGS60340 Special Assistant to the Chief of Staff

DUGS60341 Special Assistant for Program Initiatives to the Chief of Staff

DUGS60342 Special Assistant to the Chief of Staff

DUGS60354 Special Assistant to the Assistant Secretary for Housing, Federal Housing Commissioner

DUGS60388 Scheduling Coordinator to the Assistant Secretary for Administration/Chief Human Capital Officer

DUGS60389 Scheduling and Advance Coordinator to the Chief of Staff

DUGS60415 Senior Speechwriter to the Assistant Secretary for Public Affairs

DUGS60436 Staff Assistant to the Chief of Staff

DUGS60437 Special Assistant to the Secretary, Housing and Urban Development

DUGS60502 Special Policy Advisor to the Assistant Secretary for Public and Indian Housing

DUGS60519 Special Assistant to the Assistant Secretary for Public and Indian Housing

DUGS60520 Special Assistant to the Assistant Secretary for Public and Indian Housing

DUGS60597 Deputy Chief of Staff for Policy and Programs to the Chief of Staff

DUGS60599 Deputy Chief of Staff to the Chief of Staff

DUGS60603 Staff Assistant to the General Deputy Assistant Secretary for Policy Development Research

DUGS60621 Special Assistant to the Assistant Secretary for Policy Development and Research

National Mediation Board

NMGS60054 Confidential Assistant to a Board Member

Federal Labor Relations Authority

FAGS00001 Management Assistant to the Chairman

FAGS60022 Executive Assistant to the Chairman

Department of Transportation

DTGS60054 Associate Director for Governmental Affairs to the Assistant Secretary for Governmental Affairs

DTGS60199 Special Assistant to the Administrator

DTGS60202 Special Assistant to the Administrator

DTGS60237 Press Secretary to the Secretary and Director of Public Affairs

DTGS60257 Deputy Director of Public Affairs to the Secretary and Director of Public Affairs

DTGS60258 Associate Director for Governmental Affairs to the Assistant Secretary for Governmental Affairs

DTGS60274 Deputy Press Secretary to the Secretary and Director of Public Affairs

DTGS60295 Special Assistant to the Under Secretary of Transportation for Policy to the Associate Deputy Secretary

DTGS60311 Special Assistant for Scheduling and Advance to the Director of Scheduling and Advance

DTGS60317 Deputy Assistant Administrator for Government and Industry Affairs to the Assistant Administrator for Government and Industry Affairs

DTGS60324 Director of Scheduling and Advance to the Chief of Staff

DTGS60326 Special Assistant to the Administrator

DTGS60337 Director of Communications to the Administrator

DTGS60341 Associate Director for Governmental Affairs to the Deputy Assistant Secretary for Governmental Affairs

DTGS60342 Special Assistant to the Director of Scheduling and Advance

DTGS60358 Special Assistant to the Director of Scheduling and Advance

DTGS60360 Scheduler to the Director of Scheduling and Advance

DTGS60369 Deputy Assistant Secretary for Governmental Affairs to the Assistant Secretary for Governmental Affairs

DTGS60371 Deputy Assistant Secretary for Governmental Affairs to the Assistant Secretary for Governmental Affairs

DTGS60375 White House Liaison to the Chief of Staff

DTGS60451 Director of Communications to the Administrator

DTGS60462 Associate Director for Public Liaison to the Deputy Director of Public Affairs

National Transportation Safety Board

TBGS51532 Special Assistant to a Member

TBGS60025 Special Assistant to the Vice Chairman

TBGS81116 Confidential Assistant to the Chairman

Federal Housing Finance Board

FBOT00004 Counsel to the Chairman

FBOT00005 Staff Assistant to the Chairman

FBOT00010 Special Assistant to the Board Director

FBOT60009 Special Assistant to the Board Director

National Labor Relations Board

NLGS06872 Attorney Adviser (Labor) to the Chairman

Authority: 5 U.S.C. 3301 and 3302; E.O.10577, 3 CFR 1954-1958 Comp., p. 218.

Office of Personnel Management.
John Berry,
Director.

[FR Doc. E9-25310 Filed 10-20-09; 8:45 am]

BILLING CODE 6325-39-P